DEPARTMENT OF HOUSING AND URBAN DEVELOPMENT

[Docket No. FR-4730-N-09]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AF: Ms. Barbara Jenkins, Air Force Real Estate Agency (Area-MI), Bolling Air Force Base, 112 Luke Avenue, Suite 104, Building 5683, Washington, DC 20332-8020; (202) 767-4184; COE: Ms. Shirley Middleswarth, Army Corps of Engineers, Management & Disposal Division, 441 G Street, Washington, DC 20314-1000; (202) 761-7425; GSA: Mr. Brian K. Polly, Assistant Commissioner, General Services Administration, Office of Property Disposal, 18th and F Streets, NW, Washington, DC 20405; (202) 501-0052; INTERIOR: Ms. Linda Tribby, Acquisition & Property Management, Department of the Interior, 1849 C Street, NW, MS5512, Washington, DC 20240; (202) 219-0728; NAVY: Mr. Charles C. Cocks, Director, Department of the Navy, Real Estate Policy Division, Naval Facilities Engineering Command, Washington Navy Yard, 1322 Patterson Ave., SE, Suite 1000, Washington, DC 20374-5065; (202) 685-9200; (These are not toll-free numbers).

Dated: February 22, 2002.
John D. Garrity,
Director, Office of Special Needs Assistance Programs.

Title V, Federal Surplus Property Program Federal Register Report for 3/1/02

Suitable/Available Properties

Buildings (by State)

Idaho

Ditchrider House 25822 Middleton Rd.

Middleton Co: Canyon ID 83644-

Landholding Agency: Interior

Property Number: 61200140006

Status: Unutilized

Comment: 832 sq. ft. residence, needs rehab, off-site use only

Kentucky

Green River Lock & Dam #3

Rochester Co: Butler KY 42273-

Location: SR 70 west from Morgantown, KY., approximately 7 miles to site

Landholding Agency: COE

Property Number: 31199010022

Status: Unutilized

Comment: 980 sq. ft.; 2 story wood frame; two story residence; potential utilities; needs major rehab

Water Treatment Plant

Rough River Lake

Axtel Recreation Site

McDaniels Co: KY

Landholding Agency: COE

Property Number: 31200210025

Status: Excess

Comment: 412 sq. ft., off-site use only

Massachusetts

Storage Bldg.

Knightville Dam Road

Huntington Co: Hampshire MA 01050-

Landholding Agency: COE

Property Number: 31200030005

Status: Unutilized

Comment: 480 sq. ft., needs rehab, off-site use only

Minnesota

Storage

1 Portland Ave

St. Anthony Falls Lock & Dam

Minneapolis Co: Hennepin MN 55401-2528

Landholding Agency: COE

Property Number: 31200210004

Status: Excess

Comment: 720 sq. ft., must be dismantled prior to moving, off-site use only

Garage/Storage

1 Portland Ave.

St. Anthony Falls Lock & Dam

Minneapolis Co: Hennepin MN 55401-2528

Landholding Agency: COE

Property Number: 31200210005

Status: Excess

Comment: 768 sq. ft., must be dismantled prior to moving, off-site use only

Montana

Bldg. 1

Butte Natl Guard

Butte Co: Silverbow MT 59701-

Landholding Agency: COE

Property Number: 31200040010

Status: Unutilized

Comment: 22799 sq. ft., presence of asbestos, most recent use—cold storage, off-site use only

Bldg. 2

Butte Natl Guard

Butte Co: Silverbow MT 59701-

Landholding Agency: COE

Property Number: 31200040011

Status: Unutilized

Comment: 3292 sq. ft., most recent use—cold storage, off-site use only

Bldg. 3

Butte Natl Guard

Butte Co: Silverbow MT 59701-

Landholding Agency: COE

Property Number: 31200040012

Status: Unutilized

Comment: 964 sq. ft., most recent use—cold storage, off-site use only

Bldg. 4

Butte Natl Guard

Butte Co: Silverbow MT 59701-

Landholding Agency: COE

Property Number: 31200040013

Status: Unutilized

Comment: 72 sq. ft., most recent use—cold storage, off-site use only

Bldg. 5

Butte Natl Guard

Butte Co: Silverbow MT 59701-

Landholding Agency: COE

Property Number: 31200040014

Status: Unutilized

Comment: 1286 sq. ft., most recent use—cold storage, off-site use only

Nevada

6 Cabins

#70, 14, 24, 5, 2, 21

Lake Meade, 601 Nevada Highway

Boulder Co: NV 89005-

Landholding Agency: Interior

Property Number: 61200130011

Status: Unutilized

Comment: vacation cabins, remote location, entrance fee required, presence of asbestos, off-site use only

New York

Bldg. 1452 & 297 acres

AVA Test Annex

Town of Ava Co: Oneida NY 13303-

Landholding Agency: Air Force

Property Number: 18199920030

Status: Unutilized

Comment: 11,000 sq. ft. on 297 acres (67 acres of wetland), most recent use—electronic research testing, presence of asbestos/lead paint

Bldg. 1453

AVA Test Annex

Town of Ava Co: Oneida NY 13303-

Landholding Agency: Air Force

Property Number: 18199920031

Status: Unutilized

Comment: 266 sq. ft., most recent use—generator bldg., presence of asbestos

Bldg. 1454

AVA Test Annex

Town of Ava Co: Oneida NY 13303-

Landholding Agency: Air Force

Property Number: 18199920032

Status: Unutilized

Comment: 53 sq. ft., most recent use—switch station, presence of asbestos

Lockport Comm. Facility

Shawnee Road

Lockport Co: Niagara NY

Landholding Agency: Air Force

Property Number: 18200040004

Status: Excess

Comment: 2 concrete block bldgs., (415 & 2929 sq. ft.) on 7.68 acres

North Dakota

Office Bldg.

Lake Oahe Project 3rd & Main

Ft. Yates Co: Sioux ND 58538-

Landholding Agency: COE

Property Number: 31200020001

Status: Unutilized

Comment: 1200 sq. ft., 2-story wood, off-site use only

Ohio

Barker Historic House

Willow Island Locks and Dam

Newport Co: Washington OH 45768-9801

Location: Located at lock site, downstream of lock and dam structure

Landholding Agency: COE

Property Number: 31199120018

Status: Unutilized

Comment: 1600 sq. ft. bldg. with 1/2 acre of land, 2 story brick frame, needs rehab, on Natl Register of Historic Places, no utilities, off-site use only

Residence

506 Reservoir Rd.

Paint Creek Lake

Bainbridge Co: Highland OH 45612-

Landholding Agency: COE

Property Number: 31200210008

Status: Unutilized

Comment: 1200 sq. ft., needs repair, off-site use only

Residence

4969 Dillon Dam Road

Dillon Lake

Zanesville Co: OH 43701-

Landholding Agency: COE

Property Number: 31200210009

Status: Unutilized

Comment: 1800 sq. ft., off-site use only

Pennsylvania

Mahoning Creek Reservoir

New Bethlehem Co: Armstrong PA 16242-

Landholding Agency: COE

Property Number: 31199210008

Status: Unutilized

Comment: 1015 sq. ft., 2 story brick residence, off-site use only

Dwelling

Lock & Dam 6, Allegheny River, 1260 River Rd.

Freeport Co: Armstrong PA 16229-2023

Landholding Agency: COE

Property Number: 31199620008

Status: Unutilized

Comment: 2652 sq. ft., 3-story brick house, in close proximity to Lock and Dam, available for interim use for nonresidential purposes

Govt. Dwelling

Youghiogheny River Lake

Confluence Co: Fayette PA 15424-9103

Landholding Agency: COE

Property Number: 31199640002

Status: Unutilized

Comment: 1421 sq. ft., 2-story brick w/basement, most recent use—residential

Dwelling

Lock & Dam 4, Allegheny River

Natrona Co: Allegheny PA 15065-2609

Landholding Agency: COE

Property Number: 31199710009

Status: Unutilized

Comment: 1664 sq. ft., 2-story brick residence, needs repair, off-site use only

Dwelling #1

Crooked Creek Lake

Ford City Co: Armstrong PA 16226-8815

Landholding Agency: COE

Property Number: 31199740002

Status: Excess

Comment: 2030 sq. ft., most recent use—residential, good condition, off-site use only

Dwelling #2

Crooked Creek Lake

Ford City Co: Armstrong PA 16226-8815

Landholding Agency: COE

Property Number: 31199740003

Status: Excess

Comment: 3045 sq. ft., most recent use—residential, good condition, off-site use only

Govt Dwelling

East Branch Lake

Wilcox Co: Elk PA 15870-9709

Landholding Agency: COE

Property Number: 31199740005

Status: Underutilized

Comment: approx. 5299 sq. ft., 1-story, most recent use—residence, off-site use only

Dwelling #1

Loyalhanna Lake

Saltsburg Co: Westmoreland PA 15681-9302

Landholding Agency: COE

Property Number: 31199740006

Status: Excess

Comment: 1996 sq. ft., most recent use—residential, good condition, off-site use only

Dwelling #2

Loyalhanna Lake

Saltsburg Co: Westmoreland PA 15681-9302

Landholding Agency: COE

Property Number: 31199740007

Status: Excess

Comment: 1996 sq. ft., most recent use—residential, good condition, off-site use only

Dwelling #1

Woodcock Creek Lake

Saegertown Co: Crawford PA 16433-0629

Landholding Agency: COE

Property Number: 31199740008

Status: Excess

Comment: 2106 sq. ft., most recent use—residential, good condition, off-site use only

Dwelling #2

Lock & Dam 6, 1260 River Road

Freeport Co: Armstrong PA 16229-2023

Landholding Agency: COE

Property Number: 31199740009

Status: Excess

Comment: 2652 sq. ft., most recent use—residential, good condition, off-site use only

Dwelling #2

Youghiogheny River Lake

Confluence Co: Fayette PA 15424-9103

Landholding Agency: COE

Property Number: 31199830003

Status: Excess

Comment: 1421 sq. ft., 2-story + basement, most recent use—residential

Residence/Office

Cowanesque Lake Project

Lawrenceville Co: Tioga PA 16929-

Landholding Agency: COE

Property Number: 31199940002

Status: Unutilized

Comment: 1653 sq. ft. residence, and 2,640 sq. ft. storage bldg., need major repairs, no operating sanitary facilities

South Dakota

West Communications Annex

Ellsworth Air Force Base

Ellsworth AFB Co: Meade SD 57706-

Landholding Agency:Air Force

Property Number: 18199340051

Status: Unutilized

Comment: 2 bldgs. on 2.37 acres, remote area, lacks infrastructure, road hazardous during winter storms, most recent use—industrial storage

Residence, Tract 115

Oahe Dam/Lake Oahe Project

Pierre Co: SD 57501-

Landholding Agency: COE

Property Number: 31200210010

Status: Excess

Comment: 1037 sq. ft., off-site use only

Residence, Tract 116

Oahe Dam/Lake Oahe Project

Pierre Co: SD 57501-

Landholding Agency: COE

Property Number: 31200210011

Status: Excess

Comment: 1428 sq. ft., off-site use only

Residence, Tract 121

Oahe Dam/Lake Oahe Project

Pierre Co: SD 57501-

Landholding Agency: COE

Property Number: 31200210012

Status: Excess

Comment: 936 sq. ft., off-site use only

Residence, Tract 125

Oahe Dam/Lake Oahe Project

Pierre Co: SD 57501-

Landholding Agency: COE

Property Number: 31200210013

Status: Excess

Comment: 996 sq. ft., off-site use only

Residence, Tract 130

Oahe Dam/Lake Oahe Project

Pierre Co: SD 57501-

Landholding Agency: COE

Property Number: 31200210014

Status: Excess

Comment: 912 sq. ft., off-site use only

Residence, Tract 137

Oahe Dam/Lake Oahe Project

Pierre Co: SD 57501-

Landholding Agency: COE

Property Number: 31200210015

Status: Excess

Comment: 884 sq. ft., off-site use only

Residence, Tract 142

Oahe Dam/Lake Oahe Project

Pierre Co: SD 57501-

Landholding Agency: COE

Property Number: 31200210016

Status: Excess

Comment: 1048 sq. ft., off-site use only

Residence, Tract 303

Oahe Dam/Lake Oahe Project

Pierre Co: SD 57501-

Landholding Agency: COE

Property Number: 31200210017

Status: Excess

Comment: 704 sq. ft., off-site use only

Residence, Tract 404

Oahe Dam/Lake Oahe Project

Pierre Co: SD 57501-

Landholding Agency: COE

Property Number: 31200210018

Status: Excess

Comment: 952 sq. ft., off-site use only

Residence, Tract 406

Oahe Dam/Lake Oahe Project

Pierre Co: SD 57501-

Landholding Agency: COE

Property Number: 31200210019

Status: Excess

Comment: 924 sq. ft., off-site use only

Residence, Tract 409

Oahe Dam/Lake Oahe Project

Pierre Co: SD 57501-

Landholding Agency: COE

Property Number: 31200210020

Status: Excess

Comment: 1368 sq. ft., off-site use only

Residence, Tract 414

Oahe Dam/Lake Oahe Project

Pierre Co: SD 57501-

Landholding Agency: COE

Property Number: 31200210021

Status: Excess

Comment: 912 sq. ft., off-site use only

Residence, Tract 501

Oahe Dam/Lake Oahe Project

Pierre Co: SD 57501-

Landholding Agency: COE

Property Number: 31200210022

Status: Excess

Comment: 942 sq. ft., off-site use only

Residence, Tract 502

Oahe Dam/Lake Oahe Project

Pierre Co: SD 57501-

Landholding Agency: COE

Property Number: 31200210023

Status: Excess

Comment: 1008 sq. ft., off-site use only

Virginia

Metal Bldg.

John H. Kerr Dam & Reservoir

Co: Boydton VA

Landholding Agency: COE

Property Number: 31199620009

Status: Excess

Comment: 800 sq. ft., most recent use—storage, off-site use only

Wisconsin

Former Lockmaster's Dwelling

Cedar Locks

4527 East Wisconsin Road

Appleton Co: Outagamie WI 54911-

Landholding Agency: COE

Property Number: 31199011524

Status: Unutilized

Comment: 1224 sq. ft.; 2 story brick/wood frame residence; needs rehab; secured area with alternate access

Former Lockmaster's Dwelling

Appleton 4th Lock

905 South Lowe Street

Appleton Co: Outagamie WI 54911-

Landholding Agency: COE

Property Number: 31199011525

Status: Unutilized

Comment: 908 sq. ft.; 2 story wood frame residence; needs rehab

Former Lockmaster's Dwelling

Kaukauna 1st Lock

301 Canal Street

Kaukauna Co: Outagamie WI 54131-

Landholding Agency: COE

Property Number: 31199011527

Status: Unutilized

Comment: 1290 sq. ft.; 2 story wood frame residence; needs rehab; secured area with alternate access

Former Lockmaster's Dwelling

Appleton 1st Lock

905 South Oneida Street

Appleton Co: Outagamie WI 54911-

Landholding Agency: COE

Property Number: 31199011531

Status: Unutilized

Comment: 1300 sq. ft.; potential utilities; 2 story wood frame residence; needs rehab; secured area with alternate access

Former Lockmaster's Dwelling

Rapid Croche Lock

Lock Road

Wrightstown Co: Outagamie WI 54180-

Location: 3 miles southwest of intersection State Highway 96 and Canal Road

Landholding Agency: COE

Property Number: 31199011533

Status: Unutilized

Comment: 1952 sq. ft.; 2 story wood frame residence; potential utilities; needs rehab

Former Lockmaster's Dwelling

Little KauKauna Lock

Little KauKauna

Lawrence Co: Brown WI 54130-

Location: 2 miles southeasterly from intersection of Lost Dauphin Road (County Trunk Highway “D”) and River Street

Landholding Agency: COE

Property Number: 31199011535

Status: Unutilized

Comment: 1224 sq. ft.; 2 story brick/wood frame residence; needs rehab

Former Lockmaster's Dwelling

Little Chute, 2nd Lock

214 Mill Street

Little Chute Co: Outagamie WI 54140-

Landholding Agency: COE

Property Number: 31199011536

Status: Unutilized

Comment: 1224 sq. ft.; 2 story brick/wood frame residence; potential utilities; needs rehab; secured area with alternate access

Land (by State)

Arizona

WC-1-2c & WC-1-2f

Range 1 East

Peoria Co: Maricopa AZ 85382-

Landholding Agency: Interior

Property Number: 61200140007

Status: Excess

Comment: 10 acres, portion of parcels, remote location, no utilities

Unit B

Florence Gardens Subdivision

Florence Co: Pinal AZ 85232-

Landholding Agency: Interior

Property Number: 61200210011

Status: Excess

Comment: 8.12 acres

Arkansas

Parcel 01

DeGray Lake

Section 12

Arkadelphia Co: Clark AR 71923-9361

Landholding Agency: COE

Property Number: 31199010071

Status: Unutilized

Comment: 77.6 acres

Parcel 02

DeGray Lake

Section 13

Arkadelphia Co: Clark AR 71923-9361

Landholding Agency: COE

Property Number: 31199010072

Status: Unutilized

Comment: 198.5 acres

Parcel 03

DeGray Lake

Section 18

Arkadelphia Co: Clark AR 71923-9361

Landholding Agency: COE

Property Number: 31199010073

Status: Unutilized

Comment: 50.46 acres

Parcel 04

DeGray Lake

Section 24, 25, 30 and 31

Arkadelphia Co: Clark AR 71923-9361

Landholding Agency: COE

Property Number: 31199010074

Status: Unutilized

Comment: 236.37 acres

Parcel 05

DeGray Lake

Section 16

Arkadelphia Co: Clark AR 71923-9361

Landholding Agency: COE

Property Number: 31199010075

Status: Unutilized

Comment: 187.30 acres

Parcel 06

DeGray Lake

Section 13

Arkadelphia Co: Clark AR 71923-9361

Landholding Agency: COE

Property Number: 31199010076

Status: Unutilized

Comment: 13.0 acres

Parcel 07

DeGray Lake

Section 34

Arkadelphia Co: Hot Spring AR 71923-9361

Landholding Agency: COE

Property Number: 31199010077

Status: Unutilized

Comment: 0.27 acres

Parcel 08

DeGray Lake

Section 13

Arkadelphia Co: Clark AR 71923-9361

Landholding Agency: COE

Property Number: 31199010078

Status: Unutilized

Comment: 14.6 acres

Parcel 09

DeGray Lake

Section 12

Arkadelphia Co: Hot Spring AR 71923-9361

Landholding Agency: COE

Property Number: 31199010079

Status: Unutilized

Comment: 6.60 acres

Parcel 10

DeGray Lake

Section 12

Arkadelphia Co: Hot Spring AR 71923-9361

Landholding Agency: COE

Property Number: 31199010080

Status: Unutilized

Comment: 4.5 acres

Parcel 11

DeGray Lake

Section 19

Arkadelphia Co: Hot Spring AR 71923-9361

Landholding Agency: COE

Property Number: 31199010081

Status: Unutilized

Comment: 19.50 acres

Lake Greeson

Section 7, 8 and 18

Murfreesboro Co: Pike AR 71958-9720

Landholding Agency: COE

Property Number: 31199010083

Status: Unutilized

Comment: 46 acres

Florida

Homestead Communications Annex

Homestead Co: Dare FL 33033-

Landholding Agency: Air Force

Property Number: 18200210015

Status: Excess

Comment: 20 acres w/concrete bldg., consist of wetlands/100 year floodplain, most recent use—high frequency regional broadcasting system

Kansas

Parcel 1

El Dorado Lake

Section 13, 24, and 18

(See County) Co: Butler KS

Landholding Agency: COE

Property Number: 31199010064

Status: Unutilized

Comment: 61 acres; most recent use—recreation

Kentucky

Tract 2625

Barkley Lake, Kentucky, and Tennessee

Cadiz Co: Trigg KY 42211-

Location: Adjoining the village of Rockcastle

Landholding Agency: COE

Property Number: 31199010025

Status: Excess

Comment: 2.57 acres; rolling and wooded

Tract 2709-10 and 2710-2

Barkley Lake, Kentucky and Tennessee

Cadiz Co: Trigg KY 42211-

Location: 2½ miles in a southerly direction from the village of Rockcastle

Landholding Agency: COE

Property Number: 31199010026

Status: Excess

Comment: 2.00 acres; steep and wooded

Tract 2708-1 and 2709-1

Barkley Lake, Kentucky and Tennessee

Cadiz Co: Trigg KY 42211-

Location: 2½ miles in a southerly direction from the village of Rockcastle

Landholding Agency: COE

Property Number: 31199010027

Status: Excess

Comment: 3.59 acres; rolling and wooded; no utilities

Tract 2800

Barkley Lake, Kentucky and Tennessee

Cadiz Co: Trigg KY 42211-

Location: 4½ miles in a southeasterly direction from the village of Rockcastle

Landholding Agency: COE

Property Number: 31199010028

Status: Excess

Comment: 5.44 acres; steep and wooded

Tract 2915

Barkley Lake, Kentucky and Tennessee

Cadiz Co: Trigg KY 42211-

Location: 6½ miles west of Cadiz.

Landholding Agency: COE

Property Number: 31199010029

Status: Excess

Comment: 5.76 acres; steep and wooded; no utilities

Tract 2702

Barkley Lake, Kentucky and Tennessee

Cadiz Co: Trigg KY 42211-

Location: 1 mile in a southerly direction from the village of Rockcastle

Landholding Agency: COE

Property Number: 31199010031

Status: Excess

Comment: 4.90 acres; wooded; no utilities

Tract 4318

Barkley Lake, Kentucky and Tennessee

Canton Co: Trigg KY 42212-

Location: Trigg Co. adjoining the city of Canton, KY. on the waters of Hopson Creek

Landholding Agency: COE

Property Number: 31199010032

Status: Excess

Comment: 8.24 acres; steep and wooded

Tract 4502

Barkley Lake, Kentucky and Tennessee

Canton Co: Trigg KY 42212-

Location: 3½ miles in a southerly direction from Canton, KY.

Landholding Agency: COE

Property Number: 31199010033

Status: Excess

Comment: 4.26 acres; steep and wooded

Tract 4611

Barkley Lake, Kentucky and Tennessee

Canton Co: Trigg KY 42212-

Location: 5 miles south of Canton, KY

Landholding Agency: COE

Property Number: 31199010034

Status: Excess

Comment: 10.51 acres; steep and wooded; no utilities

Tract 4619

Barkley Lake, Kentucky and Tennessee

Canton Co: Trigg KY 42212-

Location: 4½ miles south from Canton, KY

Landholding Agency: COE

Property Number: 31199010035

Status: Excess

Comment: 2.02 acres; steep and wooded; no utilities

Tract 4817

Barkley Lake, Kentucky and Tennessee

Canton Co: Trigg KY 42212-

Location: 6½ miles south of Canton, KY

Landholding Agency: COE

Property Number: 31199010036

Status: Excess

Comment: 1.75 acres; wooded

Tract 1217

Barkley Lake, Kentucky and Tennessee

Eddyville Co: Lyon KY 42030-

Location: On the north side of the Illinois Central Railroad

Landholding Agency: COE

Property Number: 31199010042

Status: Excess

Comment: 5.80 acres; steep and wooded

Tract 1906

Barkley Lake, Kentucky and Tennessee

Eddyville Co: Lyon KY 42030-

Location: Approximately 4 miles east of Eddyville, KY

Landholding Agency: COE

Property Number: 31199010044

Status: Excess

Comment: 25.86 acres; rolling steep and partially wooded; no utilities

Tract 1907

Barkley Lake, Kentucky and Tennessee

Eddyville Co: Lyon KY 42038-

Location: On the waters of Pilfen Creek, 4 miles east of Eddyville, KY

Landholding Agency: COE

Property Number: 31199010045

Status: Excess

Comment: 8.71 acres; rolling steep and wooded; no utilities

Tract 2001 #1

Barkley Lake, Kentucky and Tennessee

Eddyville Co: Lyon KY 42030-

Location: Approximately 4½ miles east of Eddyville, KY

Landholding Agency: COE

Property Number: 31199010046

Status: Excess

Comment: 47.42 acres; steep and wooded; no utilities

Tract 2001 #2

Barkley Lake, Kentucky and Tennessee

Eddyville Co: Lyon KY 42030-

Location: Approximately 4½ miles east of Eddyville, KY

Landholding Agency: COE

Property Number: 31199010047

Status: Excess

Comment: 8.64 acres; steep and wooded; no utilities

Tract 2005

Barkley Lake, Kentucky and Tennessee

Eddyville Co: Lyon KY 42030-

Location: Approximately 5½ miles east of Eddyville, KY

Landholding Agency: COE

Property Number: 31199010048

Status: Excess

Comment: 4.62 acres; steep and wooded; no utilities

Tract 2307

Barkley Lake, Kentucky and Tennessee

Eddyville Co: Lyon KY 42030-

Location: Approximately 7½ miles southeasterly of Eddyville, KY.

Landholding Agency: COE

Property Number: 31199010049

Status: Excess

Comment: 11.43 acres; steep; rolling and wooded; no utilities

Tract 2403

Barkley Lake, Kentucky and Tennessee

Eddyville Co: Lyon KY 42030-

Location: 7 miles southeasterly of Eddyville, KY

Landholding Agency: COE

Property Number: 31199010050

Status: Excess

Comment: 1.56 acres; steep and wooded; no utilities

Tract 2504

Barkley Lake, Kentucky and Tennessee

Eddyville Co: Lyon KY 42030-

Location: 9 miles southeasterly of Eddyville, KY

Landholding Agency: COE

Property Number: 31199010051

Status: Excess

Comment: 24.46 acres; steep and wooded; no utilities

Tract 214

Barkley Lake, Kentucky and Tennessee

Grand Rivers Co: Lyon KY 42045-

Location: South of the Illinois Central Railroad, 1 mile east of the Cumberland River

Landholding Agency: COE

Property Number: 31199010052

Status: Excess

Comment: 5.5 acres; wooded; no utilities

Tract 215

Barkley Lake, Kentucky and Tennessee

Grand Rivers Co: Lyon KY 42045-

Location: 5 miles southwest of Kuttawa

Landholding Agency: COE

Property Number: 31199010053

Status: Excess

Comment: 1.40 acres; wooded; no utilities

Tract 241

Barkley Lake, Kentucky and Tennessee

Grand Rivers Co: Lyon KY 42045-

Location: Old Henson Ferry Road, 6 miles west of Kuttawa, KY

Landholding Agency: COE

Property Number: 31199010054

Status: Excess

Comment: 1.26 acres; steep and wooded; no utilities

Tracts 306, 311, 315 and 325

Barkley Lake, Kentucky and Tennessee

Grand Rivers Co: Lyon KY 42045-

Location: 2.5 miles southwest of Kuttawa, KY on the waters of Cypress Creek

Landholding Agency: COE

Property Number: 31199010055

Status: Excess

Comment: 38.77 acres; steep and wooded; no utilities

Tracts 2305, 2306, and 2400-1

Barkley Lake, Kentucky and Tennessee

Eddyville Co: Lyon KY 42030-

Location: 6½ miles southeasterly of Eddyville, KY

Landholding Agency: COE

Property Number: 31199010056

Status: Excess

Comment: 97.66 acres; steep rolling and wooded; no utilities

Tracts 5203 and 5204

Barkley Lake, Kentucky and Tennessee

Linton Co: Trigg KY 42212-

Location: Village of Linton, KY state highway 1254

Landholding Agency: COE

Property Number: 31199010058

Status: Excess

Comment: 0.93 acres; rolling, partially wooded; no utilities

Tract 5240

Barkley Lake, Kentucky and Tennessee

Linton Co: Trigg KY 42212-

Location: 1 mile northwest of Linton, KY

Landholding Agency: COE

Property Number: 31199010059

Status: Excess

Comment: 2.26 acres; steep and wooded; no utilities

Tract 4628

Barkley Lake, Kentucky and Tennessee

Canton Co: Trigg KY 42212-

Location: 4½ miles south from Canton, KY

Landholding Agency: COE

Property Number: 31199011621

Status: Excess

Comment: 3.71 acres; steep and wooded; subject to utility easements

Tract 4619-B

Barkley Lake, Kentucky and Tennessee

Canton Co: Trigg KY 42212-

Location: 4½ miles south from Canton, KY

Landholding Agency: COE

Property Number: 31199011622

Status: Excess

Comment: 1.73 acres; steep and wooded; subject to utility easements

Tract 2403-B

Barkley Lake, Kentucky and Tennessee

Eddyville Co: Lyon KY 42038-

Location: 7 miles southeasterly from Eddyville, KY

Landholding Agency: COE

Property Number: 31199011623

Status: Unutilized

Comment: 0.70 acres, wooded; subject to utility easements

Tract 241-B

Barkley Lake, Kentucky and Tennessee

Grand Rivers Co: Lyon KY 42045-

Location: South of Old Henson Ferry Road, 6 miles west of Kuttawa, KY

Landholding Agency: COE

Property Number: 31199011624

Status: Excess

Comment: 11.16 acres; steep and wooded; subject to utility easements

Tracts 212 and 237

Barkley Lake, Kentucky and Tennessee

Grand Rivers Co: Lyon KY 42045-

Location: Old Henson Ferry Road, 6 miles west of Kuttawa, KY

Landholding Agency: COE

Property Number: 31199011625

Status: Excess

Comment: 2.44 acres; steep and wooded; subject to utility easements

Tract 215-B

Barkley Lake, Kentucky and Tennessee

Grand Rivers Co: Lyon KY 42045-

Location: 5 miles southwest of Kuttawa

Landholding Agency: COE

Property Number: 31199011626

Status: Excess

Comment: 1.00 acres; wooded; subject to utility easements

Tract 233

Barkley Lake, Kentucky and Tennessee

Grand Rivers Co: Lyon KY 42045-

Location: 5 miles southwest of Kuttawa

Landholding Agency: COE

Property Number: 31199011627

Status: Excess

Comment: 1.00 acres; wooded; subject to utility easements

Tract N-819

Dale Hollow Lake & Dam Project

Illwill Creek, Hwy 90

Hobart Co: Clinton KY 42601-

Landholding Agency: COE

Property Number: 31199140009

Status: Underutilized

Comment: 91 acres, most recent use—hunting, subject to existing easements

Portion of Lock & Dam No. 1

Kentucky River

Carrolton Co: Carroll KY 41008-0305

Landholding Agency: COE

Property Number: 31199320003

Status: Unutilized

Comment: approx. 3.5 acres (sloping), access monitored

Louisiana

Wallace Lake Dam and Reservoir

Shreveport Co: Caddo LA 71103-

Landholding Agency: COE

Property Number: 31199011009

Status: Unutilized

Comment: 10.81 acres; wildlife/forestry; no utilities

Bayou Bodcau Dam and Reservoir

Haughton Co: Caddo LA 71037-9707

Location: 35 miles Northeast of Shreveport, LA

Landholding Agency: COE

Property Number: 31199011010

Status: Unutilized

Comment: 203 acres; wildlife/forestry; no utilities

Mississippi

Parcel 7

Grenada Lake

Sections 22, 23, T24N

Grenada Co: Yalobusha MS 38901-0903

Landholding Agency: COE

Property Number: 31199011019

Status: Underutilized

Comment: 100 acres; no utilities; intermittently used under lease—expires 1994

Parcel 8

Grenada Lake

Section 20, T24N

Grenada Co: Yalobusha MS 38901-0903

Landholding Agency: COE

Property Number: 31199011020

Status: Underutilized

Comment: 30 acres; no utilities; intermittently used under lease—expires 1994

Parcel 9

Grenada Lake

Section 20, T24N, R7E

Grenada Co: Yalobusha MS 38901-0903

Landholding Agency: COE

Property Number: 31199011021

Status: Underutilized

Comment: 23 acres; no utilities; intermittently used under lease—expires 1994

Parcel 10

Grenada Lake

Sections 16, 17, 18 T24N R8E

Grenada Co: Calhoun MS 38901-0903

Landholding Agency: COE

Property Number: 31199011022

Status: Underutilized

Comment: 490 acres; no utilities; intermittently used under lease—expires 1994

Parcel 2

Grenada Lake

Section 20 and T23N, R5E

Grenada Co: Grenada MS 38901-0903

Landholding Agency: COE

Property Number: 31199011023

Status: Underutilized

Comment: 60 acres; no utilities; most recent use—wildlife and forestry management

Parcel 3

Grenada Lake

Section 4, T23N, R5E

Grenada Co: Yalobusha MS 38901-0903

Landholding Agency: COE

Property Number: 31199011024

Status: Underutilized

Comment: 120 acres; no utilities; most recent use—wildlife and forestry management; (13.5 acres/agriculture lease)

Parcel 4

Grenada Lake

Section 2 and 3. T23N, R5E

Grenada Co: Yalobusha MS 38901-0903

Landholding Agency: COE

Property Number: 31199011025

Status: Underutilized

Comment: 60 acres; no utilities; most recent use—wildlife and forestry management

Parcel 5

Grenada Lake

Section 7, T24N, R6E

Grenada Co: Yalobusha MS 38901-0903

Landholding Agency: COE

Property Number: 31199011026

Status: Underutilized

Comment: 20 acres; no utilities; most recent use—wildlife and forestry management; (14 acres/agriculture lease)

Parcel 6

Grenada Lake

Section 9, T24N, R6E

Grenada Co: Yalobusha MS 38903-0903

Landholding Agency: COE

Property Number: 31199011027

Status: Underutilized

Comment: 80 acres; no utilities; most recent use—wildlife and forestry management

Parcel 11

Grenada Lake

Section 20, T24N, R8E

Grenada Co: Calhoun MS 38901-0903

Landholding Agency: COE

Property Number: 31199011028

Status: Underutilized

Comment: 30 acres; no utilities; most recent use—wildlife and forestry management

Parcel 12

Grenada Lake

Section 25, T24N, R7E

Grenada Co: Yalobusha MS 38390-10903

Landholding Agency: COE

Property Number: 31199011029

Status: Underutilized

Comment: 30 acres; no utilities; most recent use—wildlife and forestry management

Parcel 13

Grenada Lake

Section 34, T24N, R7E

Grenada Co: Yalobusha MS 38903-0903

Landholding Agency: COE

Property Number: 31199011030

Status: Underutilized

Comment: 35 acres; no utilities; most recent use—wildlife and forestry management; (11 acres/agriculture lease)

Parcel 14

Grenada Lake

Section 3, T23N, R6E

Grenada Co: Yalobusha MS 38901-0903

Landholding Agency: COE

Property Number: 31199011031

Status: Underutilized

Comment: 15 acres; no utilities; most recent use—wildlife and forestry management

Parcel 15

Grenada Lake

Section 4, T24N, R6E

Grenada Co: Yalobusha MS 38901-0903

Landholding Agency: COE

Property Number: 31199011032

Status: Underutilized

Comment: 40 acres; no utilities; most recent use—wildlife and forestry management

Parcel 16

Grenada Lake

Section 9, T23N, R6E

Grenada Co: Yalobusha MS 38901-0903

Landholding Agency: COE

Property Number: 31199011033

Status: Underutilized

Comment: 70 acres; no utilities; most recent use—wildlife and forestry management

Parcel 17

Grenada Lake

Section 17, T23N, R7E

Grenada Co: Grenada MS 28901-0903

Landholding Agency: COE

Property Number: 31199011034

Status: Underutilized

Comment: 35 acres; no utilities; most recent use—wildlife and forestry management

Parcel 18

Grenada Lake

Section 22, T23N, R7E

Grenada Co: Grenada MS 28902-0903

Landholding Agency: COE

Property Number: 31199011035

Status: Underutilized

Comment: 10 acres; no utilities; most recent use—wildlife and forestry management

Parcel 19

Grenada Lake

Section 9, T22N, R7E

Grenada Co: Grenada MS 38901-0903

Landholding Agency: COE

Property Number: 31199011036

Status: Underutilized

Comment: 20 acres; no utilities; most recent use—wildlife and forestry management

Missouri

Harry S Truman Dam & Reservoir

Warsaw Co: Benton MO 65355-

Location: Triangular shaped parcel southwest of access road “B”, part of Bledsoe Ferry

Park Tract 150.

Landholding Agency: COE

Property Number: 31199030014

Status: Underutilized

Comment: 1.7 acres; potential utilities

Nebraska

Hastings Radar Bomb Scoring

Hastings Co: Adams NE 68901-

Landholding Agency: Air Force

Property Number: 18199810027

Status: Unutilized

Comment: 11 acres

New Jersey

Belle Mead Depot

Rt. 206/Mountain View Rd.

Hillsborough Co: Somerset NJ 08502-

Landholding Agency: GSA

Property Number: 54200210014

Status: Excess

Comment: approx. 400 acres, property will not be subdivided, contaminants of concern present, lease restriction on 7 acres, 44 miles of railroad track, remediation activity, potential restriction of property; GSA Number: 1-G-NJ-0642

Oklahoma

Pine Creek Lake

Section 27 (See County) Co: McCurtain OK

Landholding Agency: COE

Property Number: 31199010923

Status: Unutilized

Comment: 3 acres; no utilities; subject to right of way for Oklahoma State Highway 3

Pennsylvania

Mahoning Creek Lake

New Bethlehem Co: Armstrong PA 16242-9603

Location: Route 28 north to Belknap, Road #4

Landholding Agency: COE

Property Number: 31199010018

Status: Excess

Comment: 2.58 acres; steep and densely wooded

Tracts 610, 611, 612

Shenango River Lake

Sharpsville Co: Mercer PA 16150-

Location: I-79 North, I-80 West, Exit Sharon. R18 North 4 miles, left on R518, right on Mercer Avenue

Landholding Agency: COE

Property Number: 31199011001

Status: Excess

Comment: 24.09 acres; subject to flowage easement

Tracts L24, L26

Crooked Creek Lake

Co: Armstrong PA 03051-

Location: Left bank—55 miles downstream of dam

Landholding Agency: COE

Property Number: 31199011011

Status: Unutilized

Comment: 7.59 acres; potential for utilities

Portion of Tract L-21A

Crooked Creek Lake, LR 03051

Ford City Co: Armstrong PA 16226-

Landholding Agency: COE

Property Number: 31199430012

Status: Unutilized

Comment: Approximately 1.72 acres of undeveloped land, subject to gas rights

Portion of Tract 119

State Rt 969

Curwensville Co: Clearfield PA 16833-

Landholding Agency: COE

Property Number: 31200010005

Status: Unutilized

Comment: approx. 17 acres, hilly wooded terrain

Tennessee

Tract 6827

Barkley Lake

Dover Co: Stewart TN 37058-

Location: 2\1/2\ miles west of Dover, TN

Landholding Agency: COE

Property Number: 31199010927

Status: Excess

Comment: .57 acres; subject to existing easements

Tracts 6002-2 and 6010

Barkley Lake

Dover Co: Stewart TN 37058-

Location: 3\1/2\ miles south of village of Tabaccoport

Landholding Agency: COE

Property Number: 31199010928

Status: Excess

Comment: 100.86 acres; subject to existing easements

Tract 11516

Barkley Lake

Ashland City Co: Dickson TN 37015-

Location: \1/2\ mile downstream from Cheatham Dam

Landholding Agency: COE

Property Number: 31199010929

Status: Excess

Comment: 26.25 acres; subject to existing easements

Tract 2319

J. Percy Priest Dam and Reservoir

Murfreesboro Co: Rutherford TN 37130-

Location: West of Buckeye Bottom Road

Landholding Agency: COE

Property Number: 31199010930

Status: Excess

Comment: 14.48 acres; subject to existing easements

Tract 2227

J. Percy Priest Dam and Reservoir

Murfreesboro Co: Rutherford TN 37130-

Location: Old Jefferson Pike

Landholding Agency: COE

Property Number: 31199010931

Status: Excess

Comment: 2.27 acres; subject to existing easements

Tract 2107

J. Percy Priest Dam and Reservoir

Murfreesboro Co: Rutherford TN 37130-

Location: Across Fall Creek near Fall Creek camping area

Landholding Agency: COE

Property Number: 31199010932

Status: Excess

Comment: 14.85 acres; subject to existing easements

Tracts 2601, 2602, 2603, 2604

Cordell Hull Lake and Dam Project

Doe Row Creek

Gainesboro Co: Jackson TN 38562-

Location: TN Highway 56

Landholding Agency: COE

Property Number: 31199010933

Status: Unutilized

Comment: 11 acres; subject to existing easements

Tract 1911

J. Percy Priest Dam and Reservoir

Murfreesboro Co: Rutherford TN 37130-

Location: East of Lamar Road

Landholding Agency: COE

Property Number: 31199010934

Status: Excess

Comment: 6.92 acres; subject to existing easements

Tract 2321

J. Percy Priest Dam and Reservoir

Murfreesboro Co: Rutherford TN 37130-

Location: South of Old Jefferson Pike

Landholding Agency: COE

Property Number: 31199010935

Status: Excess

Comment: 12 acres; subject to existing easements

Tract 7206

Barkley Lake

Dover Co: Stewart TN 37058-

Location: 2½ miles SE of Dover, TN,

Landholding Agency: COE

Property Number: 31199010936

Status: Excess

Comment: 10.15 acres; subject to existing easements

Tracts 8813, 8814

Barkley Lake

Cumberland Co: Stewart TN 37050-

Location: 1½ miles East of Cumberland City

Landholding Agency: COE

Property Number: 31199010937

Status: Excess

Comment: 96 acres; subject to existing easements

Tract 8911

Barkley Lake

Cumberland City Co: Montgomery TN 37050-

Location: 4 miles east of Cumberland City

Landholding Agency: COE

Property Number: 31199010938

Status: Excess

Comment: 7.7 acres; subject to existing easements

Tract 11503

Barkley Lake

Ashland City Co: Cheatham TN 37015-

Location: 2 miles downstream from Cheatham Dam

Landholding Agency: COE

Property Number: 31199010939

Status: Excess

Comment: 1.1 acres; subject to existing easements

Tracts 11523, 11524

Barkley Lake

Ashland City Co: Cheatham TN 37015-

Location: 2½ miles downstream from Cheatham Dam

Landholding Agency: COE

Property Number: 31199010940

Status: Excess

Comment: 19.5 acres; subject to existing easements

Tract 6410

Barkley Lake

Bumpus Mills Co: Stewart TN 37028-

Location: 4½ miles SW. of Bumpus Mills

Landholding Agency: COE

Property Number: 31199010941

Status: Excess

Comment: 17 acres; subject to existing easements

Tract 9707

Barkley Lake

Palmyer Co: Montgomery TN 37142-

Location: 3 miles NE of Palmyer, TN, Highway 149

Landholding Agency: COE

Property Number: 31199010943

Status: Excess

Comment: 6.6 acres; subject to existing easements

Tract 6949

Barkley Lake

Dover Co: Stewart TN 37058-

Location: 1½ miles SE of Dover, TN

Landholding Agency: COE

Property Number: 31199010944

Status: Excess

Comment: 29.67 acres; subject to existing easements

Tracts 6005 and 6017

Barkley Lake

Dover Co: Stewart TN 37058-

Location: 3 miles south of Village of Tobaccoport

Landholding Agency: COE

Property Number: 31199011173

Status: Excess

Comment: 5 acres; subject to existing easements

Tracts K-1191, K-1135

Old Hickory Lock and Dam

Hartsville Co: Trousdale TN 37074-

Landholding Agency: COE

Property Number: 31199130007

Status: Underutilized

Comment: 54 acres, (portion in floodway), most recent use—recreation

Tract A-102

Dale Hollow Lake & Dam Project

Canoe Ridge, State Hwy 52

Celina Co: Clay TN 38551-

Landholding Agency: COE

Property Number: 31199140006

Status: Underutilized

Comment: 351 acres, most recent use—hunting, subject to existing easements

Tract A-120

Dale Hollow Lake & Dam Project

Swann Ridge, State Hwy No. 53

Celina Co: Clay TN 38551-

Landholding Agency: COE

Property Number: 31199140007

Status: Underutilized

Comment: 883 acres, most recent use—hunting, subject to existing easements

Tract D-185

Dale Hollow Lake & Dam Project

Ashburn Creek, Hwy No. 53

Livingston Co: Clay TN 38570-

Landholding Agency: COE

Property Number: 31199140010

Status: Underutilized

Comment: 97 acres, most recent use—hunting, subject to existing easements

Suitable/Unavailable Properties

Buildings (by State)

California

Santa Fe Flood Control Basin

Irwindale Co: Los Angeles CA 91706-

Landholding Agency: COE

Property Number: 31199011298

Status: Unutilized

Comment: 1400 sq. ft.; 1 story stucco; needs rehab; termite damage; secured area with alternate access

Idaho

Bldg. 224

Mountain Home Air Force

Co: Elmore ID 83648-

Landholding Agency: Air Force

Property Number: 18199840008

Status: Unutilized

Comment: 1890 sq. ft., no plumbing facilities, possible asbestos/lead paint, most recent use—office

Illinois

Bldg. 7

Ohio River Locks & Dam No. 53

Grand Chain Co: Pulaski IL 62941-9801

Location: Ohio River Locks and Dam No. 53 at Grand Chain

Landholding Agency: COE

Property Number: 31199010001

Status: Unutilized

Comment: 900 sq. ft.; 1 floor wood frame; most recent use—residence

Bldg. 6

Ohio River Locks & Dam No. 53

Grand Chain Co: Pulaski IL 62941-9801

Location: Ohio River Locks and Dam No. 53 at Grand Chain

Landholding Agency: COE

Property Number: 31199010002

Status: Unutilized

Comment: 900 sq. ft.; one floor wood frame; most recent use—residence

Bldg. 5

Ohio River Locks & Dam No. 53

Grand Chain Co: Pulaski IL 62941-9801

Location: Ohio River Locks and Dam No. 53 at Grand Chain

Landholding Agency: COE

Property Number: 31199010003

Status: Unutilized

Comment: 900 sq. ft.; one floor wood frame; most recent use—residence

Bldg. 4

Ohio River Locks & Dam No. 53

Grand Chain Co: Pulaski IL 62941-9801

Location: Ohio River Locks and Dam No. 53 at Grand Chain

Landholding Agency: COE

Property Number: 31199010004

Status: Unutilized

Comment: 900 sq. ft.; one floor wood frame; most recent use—residence

Bldg. 3

Ohio River Locks & Dam No. 53

Grand Chain Co: Pulaski IL 62941-9801

Location: Ohio River Locks and Dam No. 53 at Grand Chain

Landholding Agency: COE

Property Number: 31199010005

Status: Unutilized

Comment: 900 sq. ft.; one floor wood frame.

Bldg. 2

Ohio River Locks & Dam No. 53

Grand Chain Co: Pulaski IL 62941-9801

Location: Ohio River Locks and Dam No. 53 at Grand Chain

Landholding Agency: COE

Property Number: 31199010006

Status: Unutilized

Comment: 900 sq. ft.; one floor wood frame; most recent use—residence

Bldg. 1

Ohio River Locks & Dam No. 53

Grand Chain Co: Pulaski IL 62941-9801

Location: Ohio River Locks and Dam No. 53 at Grand Chain

Landholding Agency: COE

Property Number: 31199010007

Status: Unutilized

Comment: 900 sq. ft.; one floor wood frame; most recent use—residence

Iowa

Bldg. 00669

Sioux Gateway Airport

Sioux City Co: Woodbury IA 51110-

Landholding Agency: Air Force

Property Number: 18199310002

Status: Unutilized

Comment: 1113 sq. ft., 1-story concrete block bldg., contamination clean-up in process

Ohio

Bldg.—Berlin Lake

7400 Bedell Road

Berlin Center Co: Mahoning OH 44401-9797

Landholding Agency: COE

Property Number: 31199640001

Status: Unutilized

Comment: 1420 sq. ft., 2-story brick w/garage and basement, most recent use—residential, secured w/alternate access

Pennsylvania

Tract 353

Grays Landing Lock & Dam Project

Greensboro Co: Greene PA 15338-

Landholding Agency: COE

Property Number: 31199430019

Status: Unutilized

Comment: 812 sq. ft., 2-story, log structure, needs repair, most recent use—residential, if used for habitation must be flood proofed or removed off-site

Tract 403A

Grays Landing Lock & Dam Project

Greensboro Co: Greene PA 15338-

Landholding Agency: COE

Property Number: 31199430021

Status: Unutilized

Comment: 620 sq. ft., 2-story, needs repair, most recent use—residential, if used for habitation must be flood proofed or removed off-site

Tract 403B

Grays Landing Lock & Dam Project

Greensboro Co: Greene PA 15338-

Landholding Agency: COE

Property Number: 31199430022

Status: Unutilized

Comment: 1600 sq. ft., 2-story, brick structure, needs repair, most recent use—residential, if used for habitation must be flood proofed or removed off-site

Tract 403C

Grays Landing Lock & Dam Project

Greensboro Co: Greene PA 15338-

Landholding Agency: COE

Property Number: 31199430023

Status: Unutilized

Comment: 672 sq. ft., 2-story carriage house/stable barn type structure, needs repair, most recent use—storage/garage, if used for habitation must be flood proofed or removed

Tract 434

Grays Landing Lock & Dam Project

Greensboro Co: Greene PA 15338-

Landholding Agency: COE

Property Number: 31199430024

Status: Unutilized

Comment: 1059 sq. ft., 2-story, wood frame, 2 apt. units, historic property, if used for habitation must be flood proofed or removed off-site

Tract No. 224

Grays Landing Lock & Dam Project

Greensboro Co: Green PA 15338-

Landholding Agency: COE

Property Number: 31199440001

Status: Unutilized

Comment: 1040 sq. ft., 2 story bldg., needs repair, historic struct., flowage easement, if habitation is desired property will be required to be flood proofed or removed off site

Wisconsin

Former Lockmaster's Dwelling

DePere Lock

100 James Street

De Pere Co: Brown WI 54115-

Landholding Agency: COE

Property Number: 31199011526

Status: Unutilized

Comment: 1224 sq. ft.; 2 story brick/wood frame residence; needs rehab; secured area with alternate access

Land (by State)

Illinois

Lake Shelbyville

Shelbyville Co: Shelby & Moultrie IL 62565-9804

Landholding Agency: COE

Property Number: 31199240004

Status: Unutilized

Comment: 5 parcels of land equalling 0.70 acres, improved w/4 small equipment storage bldgs. and a small access road, easement restrictions.

Pennsylvania

East Branch Clarion River Lake

Wilcox Co: Elk PA

Location: Free camping area on the right bank off entrance roadway.

Landholding Agency: COE

Property Number: 31199011012

Status: Underutilized

Comment: 1 acre; most recent use—free campground

Dashields Locks and Dam (Glenwillard, PA)

Crescent Twp. Co: Allegheny PA 15046-0475

Landholding Agency: COE

Property Number: 31199210009

Status: Unutilized

Comment: 0.58 acres, most recent use—baseball field

South Dakota

Lots 1A, 2A, 3A, 4A

Gavins Point Dam

Dempsters Cove Addition

Yankton Co: SD

Landholding Agency: COE

Property Number: 31200210024

Status: Unutilized

Comment: 0.35 acres

Suitable/To Be Excessed

Buildings (by State)

New York

Bldg. 1

Hancock Field

Syracuse Co: Onandaga NY 13211-

Landholding Agency: Air Force

Property Number: 18199530048

Status: Excess

Comment: 4955 sq. ft., 2 story concrete block, needs rehab, most recent use—administration

Bldg. 2

Hancock Field

Syracuse Co: Onandaga NY 13211-

Landholding Agency: Air Force

Property Number: 18199530049

Status: Excess

Comment: 1476 sq. ft., 1 story concrete block, needs rehab, most recent use—repair shop

Bldg. 6

Hancock Field

Syracuse Co: Onandaga NY 13211-

Landholding Agency: Air Force

Property Number: 18199530050

Status: Excess

Comment: 2466 sq. ft., 1 story concrete block, needs rehab, most recent use—repair shop

Bldg. 11

Hancock Field

Syracuse Co: Onandaga NY 13211-

Landholding Agency: Air Force

Property Number: 18199530051

Status: Excess

Comment: 1750 sq. ft., 1 story wood frame, needs rehab, most recent use—storage

Bldg. 8

Hancock Field

Syracuse Co: Onandaga NY 13211-

Landholding Agency: Air Force

Property Number: 18199530052

Status: Excess

Comment: 1812 sq. ft., 1 story concrete block, needs rehab, most recent use—repair shop communications

Bldg. 14

Hancock Field

Syracuse Co: Onandaga NY 13211-

Landholding Agency: Air Force

Property Number: 18199530053

Status: Excess

Comment: 156 sq. ft., 1 story wood frame, most recent use—vehicle fuel station

Bldg. 30

Hancock Field

Syracuse Co: Onandaga NY 13211-

Landholding Agency: Air Force

Property Number: 18199530054

Status: Excess

Comment: 3649 sq. ft., 1 story, needs rehab, most recent use—assembly hall

Bldg. 31

Hancock Field

Syracuse Co: Onandaga NY 13211-

Landholding Agency: Air Force

Property Number: 18199530055

Status: Excess

Comment: 8252 sq. ft., 1 story concrete block, most recent use—storage

Bldg. 32

Hancock Field

Syracuse Co: Onandaga NY 13211-

Landholding Agency: Air Force

Property Number: 18199530056

Status: Excess

Comment: 1627 sq. ft., 1 story concrete block, most recent use—storage

South Carolina

5 Bldgs.

Charleston AFB Annex Housing

N. Charleston SC 29404-4827

Location: 101 Vector Ave., 112, 114, 116, 118 Intercept Ave

Landholding Agency: Air Force

Property Number: 18199830035

Status: Unutilized

Comment: 1433 sq. ft. + 345 sq. ft. carport, lead base paint/exterior most recent use—residential 1 Bldg

1 Bldg.

Charleston AFB Annex Housing

N. Charleston SC 29404-4827

Location: 102 Vector Ave

Landholding Agency: Air Force

Property Number: 18199830036

Status: Unutilized

Comment: 1545 sq. ft. + 345 sq. ft. carport, lead base paint/exterior most recent use—residential 1 Bldg

1 Bldg.

Charleston AFB Annex Housing

N. Charleston SC 29404-4827

Location: 103 Vector Ave.

Landholding Agency: Air Force

Property Number: 18199830037

Status: Unutilized

Comment: 1445 sq. ft. + 346 sq. ft. carport, lead base paint/exterior most recent use—residential

18 Bldg

Charleston AFB Annex Housing

N. Charleston SC 29404-4827

Location: 104-107 Vector Ave., 108-111, 113, 115, 117, 119 Intercept Ave., 120-122 Radar Ave

Landholding Agency: Air Force

Property Number: 18199830038

Status: Unutilized

Comment: 1265 sq. ft. + 353 sq. ft. carport, lead base paint/exterior most recent use—residential

Land (by State)

Georgia

Lake Sidney Lanier

Co: Forsyth GA 30130-

Location: Located on Two Mile Creek adj. to State Route 369

Landholding Agency: COE

Property Number: 31199440010

Status: Unutilized

Comment: 0.25 acres, endangered plant species

Lake Sidney Lanier—3 parcels

Gainesville Co: Hall GA 30503-

Location: Between Gainesville H.S. and State Route 53 By-Pass

Landholding Agency: COE

Property Number: 31199440011

Status: Unutilized

Comment: 3 parcels totalling 5.17 acres, most recent use—buffer zone, endangered plant species

Kansas

Parcel #1

Fall River Lake

Section 26

Co: Greenwood KS

Landholding Agency: COE

Property Number: 31199010065

Status: Unutilized

Comment: 126.69 acres; most recent use—recreation and leased cottage sites

Parcel No. 2, El Dorado Lake

Approx. 1 mi east of the town of El Dorado

Co: Butler KS

Landholding Agency: COE

Property Number: 31199210005

Status: Unutilized

Comment: 11 acres, part of a relocated railroad bed, rural area

Massachusetts

Buffumville Dam

Flood Control Project

Gale Road

Carlton Co: Worcester MA 01540-0155

Location: Portion of tracts B-200, B-248, B-251, B-204, B-247, B-200 and B-256

Landholding Agency: COE

Property Number: 31199010016

Status: Excess

Comment: 1.45 acres

Minnesota

Tract #3

Lac Qui Parle Flood Control Project

County Rd. 13

Watson Co: Lac Qui Parle MN 56295-

Landholding Agency: COE

Property Number: 31199340006

Status: Unutilized

Comment: approximately 2.9 acres, fallow land

Tract #34

Lac Qui Parle Flood Control Project

Marsh Lake

Watson Co: Lac Qui Parle MN 56295-

Landholding Agency: COE

Property Number: 31199340007

Status: Unutilized

Comment: approx. 8 acres, fallow land

New York

14.90 Acres

Hancock Field

Syracuse Co: Onandaga NY 13211-

Landholding Agency: Air Force

Property Number: 18199530057

Status: Excess

Comment: Fenced in compound, most recent use—Air Natl. Guard Communication & Electronics Group

Tennessee

Tract D-456

Cheatham Lock and Dam

Ashland Co: Cheatham TN 37015-

Location: Right downstream bank of Sycamore Creek.

Landholding Agency: COE

Property Number: 31199010942

Status: Excess

Comment: 8.93 acres; subject to existing easements

Texas

Corpus Christi Ship Channel

Corpus Christi Co: Neuces TX

Location: East side of Carbon Plant Road, approx. 14 miles NW of downtown Corpus Christi

Landholding Agency: COE

Property Number: 31199240001

Status: Unutilized

Comment: 4.4 acres, most recent use—farm land

Unsuitable Properties

Buildings (by State)

Alaska

Bldg. 203

Tin City Air Force Station

21 CSG/DEER

Elmendorf AFB Co: Anchorage AK 99506-5000

Landholding Agency: Air Force

Property Number: 18199010296

Status: Unutilized

Reasons: Isolated area, Not accessible by road, Contamination, Secured Area

Bldg. 165

Sparrevohn Air Force Station

21 CSG/DEER

Elmendorf AFB Co: Anchorage AK 99506-5000

Landholding Agency: Air Force

Property Number: 18199010298

Status: Unutilized

Reasons: Isolated area, Not accessible by road, Contamination, Secured Area

Bldg. 150

Sparrevohn Air Force Station

21 CSG/DEER

Elmendorf AFB Co: Anchorage AK 99506-5000

Landholding Agency: Air Force

Property Number: 18199010299

Status: Unutilized

Reasons: Isolated area, Not accessible by road, Contamination, Secured Area

Bldg. 130

Sparrevohn Air Force Station

21 CSG/DEER

Elmendorf AFB Co: Anchorage AK 99506-5000

Landholding Agency: Air Force

Property Number: 18199010300

Status: Unutilized

Reasons: Isolated area, Not accessible by road, Contamination, Secured Area

Bldg. 306

King Salmon Airport

21 CSG/DEER

Elmendorf AFB Co: Anchorage AK 99506-5000

Landholding Agency: Air Force

Property Number: 18199010301

Status: Unutilized

Reasons: Isolated area, Not accessible by road, Contamination, Secured Area

Bldg. 11-230

Elmendorf Air Force Base

21 CSG/DEER

Elmendorf AFB Co: Anchorage AK 99506-5000

Landholding Agency: Air Force

Property Number: 18199010303

Status: Unutilized

Reasons: Contamination, Secured Area

Bldg. 63-320

Elmendorf Air Force Base

21 CSG/DEER

Elmendorf AFB Co: Anchorage AK 99506-5000

Landholding Agency: Air Force

Property Number: 18199010307

Status: Unutilized

Reasons: Contamination, Secured Area

Bldg. 103

Ft. Yukon Air Force Station

21 CSG/DEER

Elmendorf AFB Co: Anchorage AK 99506-5000

Landholding Agency: Air Force

Property Number: 18199010309

Status: Unutilized

Reasons: Isolated area, Not accessible by road, Contamination, Secured Area

Bldg. 110

Ft. Yukon Air Force Station

21 CSG/DEER

Elmendorf AFB Co: Anchorage AK 99506-5000

Landholding Agency: Air Force

Property Number: 18199010310

Status: Unutilized

Reasons: Isolated area, Not accessible by road, Contamination, Secured Area

Bldg. 112

Ft. Yukon Air Force Station

21 CSG/DEER

Elmendorf AFB Co: Anchorage AK 99506-5000

Landholding Agency: Air Force

Property Number: 18199010311

Status: Unutilized

Reasons: Isolated area, Not accessible by road, Contamination, Secured Area

Bldg. 113

Ft. Yukon Air Force Station

21 CSG/DEER

Elmendorf AFB Co: Anchorage AK 99506-5000

Landholding Agency: Air Force

Property Number: 18199010312

Status: Unutilized

Reasons: Isolated area, Not accessible by road, Contamination, Secured Area

Bldg. 114

Ft. Yukon Air Force Station

21 CSG/DEER

Elmendorf AFB Co: Anchorage AK 99506-5000

Landholding Agency: Air Force

Property Number: 18199010313

Status: Unutilized

Reasons: Isolated area, Not accessible by road, Contamination, Secured Area

Bldg. 115

Ft. Yukon Air Force Station

21 CSG/DEER

Elmendorf AFB Co: Anchorage AK 99506-5000

Landholding Agency: Air Force

Property Number: 18199010314

Status: Unutilized

Reasons: Isolated area, Not accessible by road, Contamination, Secured Area

Bldg. 118

Ft. Yukon Air Force Station

21 CSG/DEER

Elmendorf AFB Co: Anchorage AK 99506-5000

Landholding Agency: Air Force

Property Number: 18199010315

Status: Unutilized

Reasons: Isolated area, Not accessible by road, Contamination, Secured Area

Bldg. 1018

Ft. Yukon Air Force Station

21 CSG/DEER

Elmendorf AFB Co: Anchorage AK 99506-5000

Landholding Agency: Air Force

Property Number: 18199010317

Status: Unutilized

Reasons: Isolated area, Not accessible by road, Contamination, Secured Area

Bldg. 1025

Ft. Yukon Air Force Station

21 CSG/DEER

Elmendorf AFB Co: Ahcnorage AK 99506-5000

Landholding Agency: Air Force

Property Number: 18199010318

Status: Unutilized

Reasons: Isolated area, Not accessible by road, Contamination, Secured Area

Bldg. 1055

Ft. Yukon Air Force Station

21 CSG/DEER

Elmendorf AFB Co: Anchorage AK 99506-5000

Landholding Agency: Air Force

Property Number: 18199010319

Status: Unutilized

Reasons: Isolated area, Not accessible by road, Contamination, Secured Area

Bldg. 107

Cape Lisburne Air Force Station

21 CSG/DEER

Elmendorf AFB Co: Anchorage AK 99506-5000

Landholding Agency: Air Force

Property Number: 18199010320

Status: Unutilized

Reasons: Isolated area, Not accessible by road, Contamination, Secured Area

Bldg. 115

Cape Lisburne Air Force Station

21 CSG/DEER

Elmendorf AFB Co: Anchorage AK 99506-5000

Landholding Agency: Air Force

Property Number: 18199010321

Status: Unutilized

Reasons: Isolated area, Not accessible by road, Contamination, Secured Area

Reasons: Isolated area, Not accessible by road, Contamination, Secured Area

Bldg. 113

Cape Lisburne Air Force Station

21 CSG/DEER

Elmendorf AFB Co: Anchorage AK 99506-5000

Landholding Agency: Air Force

Property Number: 18199010322

Status: Unutilized

Reasons: Isolated area, Not accessible by road, Contamination, Secured Area

Bldg. 150

Cape Lisburne Air Force Station

21 CSG/DEER

Elmendorf AFB Co: Anchorage AK 88506-5000

Landholding Agency: Air Force

Property Number: 18199010323

Status: Unutilized

Reasons: Isolated area, Not accessible by road, Contamination, Secured Area

Bldg. 152

Cape Lisburne Air Force Station

21 CSG/DEER

Elmendorf AFB Co: Anchorage AK 99506-5000

Landholding Agency: Air Force

Property Number: 18199010324

Status: Unutilized

Reasons: Isolated area, Not accessible by road, Contamination, Secured Area

Bldg. 301

Cape Lisburne Air Force Station

21 CSG/DEER

Elmendorf AFB Co: Anchorage AK 99506-5000

Landholding Agency: Air Force

Property Number: 18199010325

Status: Unutilized

Reasons: Isolated area, Not accessible by road, Contamination, Secured Area

Bldg. 1001

Cape Lisburne Air Force Station

21 CSG/DEER

Elmendorf AFB Co: Anchorage AK 99506-5000

Landholding Agency: Air Force

Property Number: 18199010326

Status: Unutilized

Reasons: Isolated area, Not accessible by road, Contamination, Secured Area

Bldg. 1003

Cape Lisburne Air Force Station

21 CSG/DEER

Elmendorf AFB Co: Anchorage AK 99506-5000

Landholding Agency: Air Force

Property Number: 18199010327

Status: Unutilized

Reasons: Isolated area, Not accessible by road, Contamination, Secured Area

Bldg. 1055

Cape Lisburne Air Force Station

21 CSG/DEER

Elmendorf AFB Co: Anchorage AK 99506-5000

Landholding Agency: Air Force

Property Number: 18199010328

Status: Unutilized

Reasons: Isolated area, Not accessible by road, Contamination, Secured Area

Bldg. 1056

Cape Lisburne Air Force Station

21 CSG/DEER

Elmendorf AFB Co: Anchorage AK 99506-5000

Landholding Agency: Air Force

Property Number: 18199010329

Status: Unutilized

Reasons: Isolated area, Not accessible by road, Contamination, Secured Area

Bldg. 103

Kotzebue Air Force Station 21 CSG/DEER

Elmendorf AFB Co: Anchorage AK 99506-5000

Landholding Agency: Air Force

Property Number: 18199010330

Status: Unutilized

Reasons: Isolated area, Not accessible by road, Contamination, Secured Area

Bldg. 104

Kotzebue Air Force Station

21 CSG/DEER

Elmendorf AFB Co: Anchorage AK 99506-5000

Landholding Agency: Air Force

Property Number: 18199010331

Status: Unutilized

Reasons: Isolated area, Not accessible by road, Contamination, Secured Area

Bldg. 105

Kotzebue Air Force Station

21 CSG/DEER

Elmendorf AFB Co: Anchorage AK 99506-5000

Landholding Agency: Air Force

Property Number: 18199010332

Status: Unutilized

Reasons: Isolated area, Not accessible by road, Contamination, Secured Area

Bldg. 110

Kotzebue Air Force Station

21 CSG/DEER

Elmendorf AFB Co: Anchorage AK 99506-5000

Landholding Agency: Air Force

Property Number: 18199010333

Status: Unutilized

Reasons: Isolated area, Not accessible by road, Contamination, Secured Area

Bldg. 114

Kotzebue Air Force Station

21 CSG/DEER

Elmendorf AFB Co: Anchorage AK 99506-5000

Landholding Agency: Air Force

Property Number: 18199010334

Status: Unutilized

Reasons: Isolated area, Not accessible by road, Contamination, Secured Area

Bldg. 202

Kotzebue Air Force Station

21 CSG/DEER

Elmendorf Co: Anchorage AK 99506-5000

Landholding Agency: Air Force

Property Number: 18199010335

Status: Unutilized

Reasons: Isolated area, Not accessible by road, Contamination, Secured Area

Bldg. 204

Kotzebue Air Force Station

21 CSG/DEER

Elmendorf AFB Co: Anchorage AK 99506-5000

Landholding Agency: Air Force

Property Number: 18199010336

Status: Unutilized

Reasons: Isolated area, Not accessible by road, Contamination, Secured Area

Bldg. 205

Kotzebue Air Force Station

21 CSG/DEER

Elmendorf AFB Co: Anchorage AK 99506-5000

Landholding Agency: Air Force

Property Number: 18199010337

Status: Unutilized

Reasons: Isolated area, Not accessible by road, Contamination, Secured Area

Bldg. 1001

Kotzebue Air Force Station 21 CSG/DEER

Elmendorf AFB Co: Anchorage AK 99506-5000

Landholding Agency: Air Force

Property Number: 18199010338

Status: Unutilized

Reasons: Isolated area, Not accessible by road, Contamination Secured Area

Bldg. 1015

Kotzebue Air Force Station

21 CSG/DEER

Elmendorf AFB Co: Anchorage AK 99506-5000

Landholding Agency: Air Force

Property Number: 18199010339

Status: Unutilized

Reasons: Isolated area, Not accessible by road, Contamination, Secured Area

Bldg. 50

Cold Bay Air Force Station

21 CSG/DEER

Elmendorf AFB Co: Anchorage AK 99506-5000

Landholding Agency: Air Force

Property Number: 18199010433

Status: Unutilized

Reasons: Isolated area, Not accessible by road, Isolated and remote; Arctic environment

Bldg. 1548, Galena Airport

Elmendorf AFB AK 99506-4420

Landholding Agency: Air Force

Property Number: 18199420001

Status: Unutilized

Reasons: Floodway, Secured Area, Extensive deterioration

Bldg. 1568, Galena Airport

Elmendorf AFB AK 99506-4420

Landholding Agency: Air Force

Property Number: 18199420002

Status: Unutilized

Reasons: Floodway, Secured Area, Extensive deterioration

Bldg. 1570, Galena Airport

Elmendorf AFB AK 99506-4420

Landholding Agency: Air Force

Property Number: 18199420003

Status: Unutilized

Reasons: Floodway, Secured Area, Extensive deterioration

Bldg. 1700, Galena Airport

Elmendorf AFB AK 99506-4420

Landholding Agency: Air Force

Property Number: 18199420004

Status: Unutilized

Reasons: Floodway, Secured Area, Extensive deterioration

Bldg. 1832, Galena Airport

Elmendorf AFB AK 99506-4420

Landholding Agency: Air Force

Property Number: 18199420005

Status: Unutilized

Reasons: Floodway, Secured Area, Extensive deterioration

Bldg. 1842, Galena Airport

Elmendorf AFB AK 99506-4420

Landholding Agency: Air Force

Property Number: 18199420006

Status: Unutilized

Reasons: Floodway, Secured Area, Extensive deterioration

Bldg. 1844, Galena Airport

Elmendorf AFB AK 99506-4420

Landholding Agency: Air Force

Property Number: 18199420007

Status: Unutilized

Reasons: Floodway, Secured Area, Extensive deterioration

Bldg. 1853, Galena Airport

Elmendorf AFB AK 99506-4420

Landholding Agency: Air Force

Property Number: 18199440011

Status: Unutilized

Reasons: Floodway, Secured Area

Bldg. 142

Tin City Long Range Radar Site

Wales Co: Nome AK

Landholding Agency: Air Force

Property Number: 18199520013

Status: Unutilized

Reasons: Secured Area, Extensive deterioration

Bldg. 110

Tin City Long Range Radar Site

Wales Co: Nome AK

Landholding Agency: Air Force

Property Number: 18199520014

Status: Unutilized

Reasons: Secured Area, Extensive deterioration

Bldg. 646

King Salmon Airport

Naknek Co: Bristol Bay AK

Landholding Agency: Air Force

Property Number: 18199520015

Status: Unutilized

Reasons: Secured Area, Extensive deterioration

Bldg. 2541

Galena Airport

Galena Co: Yukon AK

Landholding Agency: Air Force

Property Number: 18199520016

Status: Unutilized

Reasons: Secured Area, Extensive deterioration

Bldg. 1770

Galena Airport

Galena Co: Yukon AK

Landholding Agency: Air Force

Property Number: 18199520017

Status: Unutilized

Reasons: Secured Area, Extensive deterioration

Bldg. 1

Lonely Dewline Site

Fairbanks Co: Fairbanks NS AK

Landholding Agency: Air Force

Property Number: 18199520024

Status: Unutilized

Reason: Extensive deterioration

Bldg. 2, Lonely Dewline Site

Fairbanks Co: Fairbanks NS AK

Landholding Agency: Air Force

Property Number: 18199520025

Status: Unutilized

Reasons: Not accessible by road, Extensive deterioration

Bldg. 12

Lonely Dewline Site

Fairbanks Co: Fairbanks NS AK

Landholding Agency: Air Force

Property Number: 18199520026

Status: Unutilized

Reasons: Not accessible by road, Extensive deterioration

Bldg. 1

Wainwright Dewline Site

Fairbanks Co: Fairbanks NS AK

Landholding Agency: Air Force

Property Number: 18199520027

Status: Unutilized

Reasons: Not accessible by road, Extensive deterioration

Bldg. 2

Wainwright Dewline Site

Fairbanks Co: Fairbanks NS AK

Landholding Agency: Air Force

Property Number: 18199520028

Status: Unutilized

Reasons: Not accessible by road, Extensive deterioration

Bldg. 3

Wainwright Dewline Site

Fairbanks Co: Fairbanks NS AK

Landholding Agency: Air Force

Property Number: 18199520029

Status: Unutilized

Reasons: Not accessible by road, Extensive deterioration

Bldg. 3045

Tatalina Long Range Radar Site

Elmendorf AFB AK 99506-4420

Landholding Agency: Air Force

Property Number: 18199530002

Status: Unutilized

Reasons: Secured Area, Extensive deterioration

Bldg. 18

Lonely Dewline Site

Elmendorf AFB AK 99506-4420

Landholding Agency: Air Force

Property Number: 18199530003

Status: Unutilized

Reasons: Secured Area, Extensive deterioration

Bldg. 23

Lonely Dewline Site

Elmendorf AFB AK 99506-4420

Landholding Agency: Air Force

Property Number: 18199530004

Status: Unutilized

Reasons: Secured Area, Extensive deterioration

Bldg. 1015

Kotzebue Long Range Radar Site

Elmendorf AFB AK 99506-4420

Landholding Agency: Air Force

Property Number: 18199530005

Status: Unutilized

Reasons: Secured Area, Extensive deterioration

Bldg. 1

Flaxman Island DEW Site

Elmendorf AFB AK 99506-4420

Landholding Agency: Air Force

Property Number: 18199530006

Status: Unutilized

Reasons: Secured Area, Extensive deterioration

Bldg. 3

Flaxman Island DEW Site

Elmendorf AFB AK 99506-4420

Landholding Agency: Air Force

Property Number: 18199530008

Status: Unutilized

Reasons: Secured Area, Extensive deterioration

Bldg. 4100

Cape Romanzof Long Range Radar Site

Elmendorf AFB AK 99506-4420

Landholding Agency: Air Force

Property Number: 18199530009

Status: Unutilized

Reasons: Secured Area, Extensive deterioration

Bldg. 200

Cape Newenham Long Range Radar Site

Elmendorf AFB AK 99506-4420

Landholding Agency: Air Force

Property Number: 18199530010

Status: Unutilized

Reasons: Secured Area, Extensive deterioration

Bldg. 2166

Cape Newenham Long Range Radar Site

Elmendorf AFB AK 99506-4420

Landholding Agency: Air Force

Property Number: 18199530011

Status: Unutilized

Reason: Extensive deterioration

Bldg. 5500

Cape Newenham Long Range Radar Site

Elmendorf AFB AK 99506-4420

Landholding Agency: Air Force

Property Number: 18199530012

Status: Unutilized

Reasons: Secured Area, Extensive deterioration

Bldg. 8

Barter Island

Elmendorf AFB AK 99506-4420

Landholding Agency: Air Force

Property Number: 18199530013

Status: Unutilized

Reasons: Secured Area, Extensive deterioration

Bldg. 75

Barter Island

Elmendorf AFB AK 99506-4420

Landholding Agency: Air Force

Property Number: 18199530014

Status: Unutilized

Reasons: Secured Area, Extensive deterioration

Bldg. 86

Barter Island

Elmendorf AFB AK 99506-4420

Landholding Agency: Air Force

Property Number: 18199530015

Status: Unutilized

Reasons: Secured Area, Extensive deterioration

Bldg. 3060

Barter Island

Elmendorf AFB AK 99506-4420

Landholding Agency: Air Force

Property Number: 18199530016

Status: Unutilized

Reasons: Secured Area, Extensive deterioration

Bldg. 11-330

Elmendorf Air Force Base

Anchorage AK 99506-3240

Landholding Agency: Air Force

Property Number: 18199530017

Status: Unutilized

Reasons: Within airport runway clear zone, Secured Area, Extensive deterioration

Bldg. 21-737

Elmendorf Air Force Base

Anchorage AK 99506-5000

Landholding Agency: Air Force

Property Number: 18199540001

Status: Unutilized

Reasons: Secured Area, Extensive deterioration

Bldg. 52-651

Elmendorf AFB

Anchorage AK 99506-3240

Landholding Agency: Air Force

Property Number: 18199740004

Status: Unutilized

Reasons: Secured Area, Extensive deterioration

Bldg. 132

Tin City Long Range Radar Site

Elmendorf AFB AK 99506-2270

Landholding Agency: Air Force

Property Number: 18199810003

Status: Unutilized

Reasons: Secured Area, Extensive deterioration

Bldgs. 1001, 211

Murphy Dome AF Station

Elmendorf AFB AK 99506-2270

Landholding Agency: Air Force

Property Number: 18199810004

Status: Unutilized

Reasons: Secured Area, Extensive deterioration

Bldg. 1551

Galena Airport

Elmendorf AFB AK 99506-2270

Landholding Agency: Air Force

Property Number: 18199810030

Status: Unutilized

Reason: Within airport runway clear zone

Bldg. 1771

Galena Airport

Elmendorf AFB AK 99506-2270

Landholding Agency: Air Force

Property Number: 18199820001

Status: Unutilized

Reasons: Secured Area, Extensive deterioration

Bldg. 3

Oliktok Long Range Radar Site

Elmendorf AFB AK 99506-2270

Landholding Agency: Air Force

Property Number: 18199840010

Status: Unutilized

Reasons: Secured Area, Extensive deterioration

Bldg. 8

Oliktok Long Range Radar Site

Elmendorf AFB AK 99506-2270

Landholding Agency: Air Force

Property Number: 18199840011

Status: Unutilized

Reasons: Secured Area, Extensive deterioration

Bldg. 19

Lonely Short Range Radar Site

Elmendorf AFB AK 99506-2270

Landholding Agency: Air Force

Property Number: 18199840012

Status: Unutilized

Reasons: Secured Area, Extensive deterioration

Bldg. 20

Lonely Short Range Radar Site

Elmendorf AFB AK 99506-2270

Landholding Agency: Air Force

Property Number: 18199840013

Status: Unutilized

Reasons: Secured Area, Extensive deterioration

Bldg. 338

King Salmon Airport

Naknek Co: Bristol Bay AK

Landholding Agency: Air Force

Property Number: 18199840014

Status: Unutilized

Reasons: Secured Area, Extensive deterioration

Bldg. 560

King Salmon Airport

Naknek Co: Bristol Bay AK

Landholding Agency: Air Force

Property Number: 18199840015

Status: Unutilized

Reasons: Secured Area, Extensive deterioration

Bldg. 612

King Salmon Airport

Naknek Co: Bristol Bay AK

Landholding Agency: Air Force

Property Number: 18199840016

Status: Unutilized

Reasons: Secured Area, Extensive deterioration

Bldg. 618

King Salmon Airport

Naknek Co: Bristol Bay AK

Landholding Agency: Air Force

Property Number: 18199840017

Status: Unutilized

Reasons: Secured Area, Extensive deterioration

Bldg. 643

King Salmon Airport

Naknek Co: Bristol Bay AK

Landholding Agency: Air Force

Property Number: 18199840018

Status: Unutilized

Reasons: Secured Area, Extensive deterioration

Bldg. 649

King Salmon Airport

Naknek Co: Bristol Bay AK

Landholding Agency: Air Force

Property Number: 18199840019

Status: Unutilized

Reasons: Secured Area, Extensive deterioration

Bldg. 114

Indian Mountain Long Range Radar Site

Elmendorf AFB AK 99506-2270

Landholding Agency: Air Force

Property Number: 18199840020

Status: Unutilized

Reasons: Secured Area, Extensive deterioration

Bldg. 34-636

Elmendorf AFB

Anchorage AK 99506-3240

Landholding Agency: Air Force

Property Number: 18199840021

Status: Unutilized

Reasons: Within 2000 ft. of flammable or explosive material, Within airport runway clear zone, Secured Area, Extensive deterioration

Bldg. 34-638

Elmendorf AFB

Anchorage AK 99506-3240

Landholding Agency: Air Force

Property Number: 18199840022

Status: Unutilized

Reasons: Within 2000 ft. of flammable or explosive material, Within airport runway clear zone, Secured Area, Extensive deterioration

Bldg. 140

Cape Lisburne Long Range Radar Site

Elmendorf AFB AK 99506-3240

Landholding Agency: Air Force

Property Number: 18199840023

Status: Unutilized

Reasons: Secured Area, Extensive deterioration

Bldg. 145

Cape Lisburne Long Range Radar Site

Elmendorf AFB AK 99506-3240

Landholding Agency: Air Force

Property Number: 18199840024

Status: Unutilized

Reasons: Secured Area, Extensive deterioration

Bldg. 310

Cape Lisburne Long Range Radar Site

Elmendorf AFB AK 99506-3240

Landholding Agency: Air Force

Property Number: 18199840025

Status: Unutilized

Reasons: Secured Area, Extensive deterioration

Bldg. 27

Eareckson Air Station

Shemya Island AK

Landholding Agency: Air Force

Property Number: 18199840026

Status: Unutilized

Reasons: Secured Area, Extensive deterioration

Bldg. 30

Eareckson Air Station

Shemya Island AK

Landholding Agency: Air Force

Property Number: 18199840027

Status: Unutilized

Reasons: Secured Area, Extensive deterioration

Bldg. 42

Eareckson Air Station

Shemya Island AK

Landholding Agency: Air Force

Property Number: 18199840028

Status: Unutilized

Reasons: Secured Area, Extensive deterioration

Bldg. 212

Eareckson Air Station

Shemya Island AK

Landholding Agency: Air Force

Property Number: 18199840029

Status: Unutilized

Reasons: Secured Area, Extensive deterioration

Bldg. 213

Eareckson Air Station

Shemya Island AK

Landholding Agency: Air Force

Property Number: 18199840030

Status: Unutilized

Reasons: Secured Area, Extensive deterioration

Bldg. 223

Eareckson Air Station

Shemya Island AK

Landholding Agency: Air Force

Property Number: 18199840031

Status: Unutilized

Reasons: Secured Area, Extensive deterioration

Bldg. 452

Eareckson Air Station

Shemya Island AK

Landholding Agency: Air Force

Property Number: 18199840032

Status: Unutilized

Reasons: Secured Area, Extensive deterioration

Bldg. 502

Eareckson Air Station

Shemya Island AK

Landholding Agency: Air Force

Property Number: 18199840033

Status: Unutilized

Reasons: Secured Area, Extensive deterioration

Bldg. 503

Eareckson Air Station

Shemya Island AK

Landholding Agency: Air Force

Property Number: 18199840034

Status: Unutilized

Reasons: Secured Area, Extensive deterioration

Bldg. 522

Eareckson Air Station

Shemya Island AK

Landholding Agency: Air Force

Property Number: 18199840035

Status: Unutilized

Reasons: Secured Area, Extensive deterioration

Bldg. 587

Eareckson Air Station

Shemya Island AK

Landholding Agency: Air Force

Property Number: 18199840036

Status: Unutilized

Reasons: Secured Area, Extensive deterioration

Bldg. 588

Eareckson Air Station

Shemya Island AK

Landholding Agency: Air Force

Property Number: 18199840037

Status: Unutilized

Reasons: Secured Area, Extensive deterioration

Bldg. 598

Eareckson Air Station

Shemya Island AK

Landholding Agency: Air Force

Property Number: 18199840038

Status: Unutilized

Reasons: Secured Area, Extensive deterioration

Bldg. 605

Eareckson Air Station

Shemya Island AK

Landholding Agency: Air Force

Property Number: 18199840039

Status: Unutilized

Reasons: Secured Area, Extensive deterioration

Bldg. 613

Eareckson Air Station

Shemya Island AK

Landholding Agency: Air Force

Property Number: 18199840040

Status: Unutilized

Reasons: Secured Area, Extensive deterioration

Bldg. 614

Eareckson Air Station

Shemya Island AK

Landholding Agency: Air Force

Property Number: 18199840041

Status: Unutilized

Reasons: Secured Area, Extensive deterioration

Bldg. 615

Eareckson Air Station

Shemya Island AK

Landholding Agency: Air Force

Property Number: 18199840042

Status: Unutilized

Reasons: Secured Area, Extensive deterioration

Bldg. 616

Eareckson Air Station

Shemya Island AK

Landholding Agency: Air Force

Property Number: 18199840043

Status: Unutilized

Reasons: Secured Area, Extensive deterioration

Bldg. 617

Eareckson Air Station

Shemya Island AK

Landholding Agency: Air Force

Property Number: 18199840044

Status: Unutilized

Reasons: Secured Area, Extensive deterioration

Bldg. 624

Eareckson Air Station

Shemya Island AK

Landholding Agency: Air Force

Property Number: 18199840045

Status: Unutilized

Reasons: Secured Area, Extensive deterioration

Bldg. 700

Eareckson Air Station

Shemya Island AK

Landholding Agency: Air Force

Property Number: 18199840046

Status: Unutilized

Reasons: Secured Area, Extensive deterioration

Bldg. 718

Eareckson Air Station

Shemya Island AK

Landholding Agency: Air Force

Property Number: 18199840047

Status: Unutilized

Reasons: Secured Area, Extensive deterioration

Bldg. 727

Eareckson Air Station

Shemya Island AK

Landholding Agency: Air Force

Property Number: 18199840048

Status: Unutilized

Reasons: Secured Area, Extensive deterioration

Bldg. 731

Eareckson Air Station

Shemya Island AK

Landholding Agency: Air Force

Property Number: 18199840049

Status: Unutilized

Reasons: Secured Area, Extensive deterioration

Bldg. 751

Eareckson Air Station

Shemya Island AK

Landholding Agency: Air Force

Property Number: 18199840050

Status: Unutilized

Reasons: Secured Area, Extensive deterioration

Bldg. 753

Eareckson Air Station

Shemya Island AK

Landholding Agency: Air Force

Property Number: 18199840051

Status: Unutilized

Reasons: Secured Area, Extensive deterioration

Bldg. 1001

Eareckson Air Station

Shemya Island AK

Landholding Agency: Air Force

Property Number: 18199840052

Status: Unutilized

Reasons: Secured Area, Extensive deterioration

Bldg. 1005

Eareckson Air Station

Shemya Island AK

Landholding Agency: Air Force

Property Number: 18199840053

Status: Unutilized

Reasons: Secured Area, Extensive deterioration

Bldg. 1010

Eareckson Air Station

Shemya Island AK

Landholding Agency: Air Force

Property Number: 18199840054

Status: Unutilized

Reasons: Secured Area, Extensive deterioration

Bldg. 1025

Eareckson Air Station

Shemya Island AK

Landholding Agency: Air Force

Property Number: 18199840055

Status: Unutilized

Reasons: Secured Area, Extensive deterioration

Bldg. 1030

Eareckson Air Station

Shemya Island AK

Landholding Agency: Air Force

Property Number: 18199840056

Status: Unutilized

Reasons: Secured Area, Extensive deterioration

Bldg. 3016

Eareckson Air Station

Shemya Island AK

Landholding Agency: Air Force

Property Number: 18199840057

Status: Unutilized

Reasons: Secured Area, Extensive deterioration

Bldg. 3062

Eareckson Air Station

Shemya Island AK

Landholding Agency: Air Force

Property Number: 18199840058

Status: Unutilized

Reasons: Secured Area, Extensive deterioration

Bldg. 3063

Eareckson Air Station

Shemya Island AK

Landholding Agency: Air Force

Property Number: 18199840059

Status: Unutilized

Reasons: Secured Area, Extensive deterioration

Bldg. 32-189

Elmendorf Air Force Base

Anchorage Co: AK 99506-3230

Landholding Agency: Air Force

Property Number: 18199920001

Status: Unutilized

Reasons: Within 2000 ft. of flammable or explosive material, Secured Area, Extensive deterioration

Bldg. 4893

Elmendorf AFB

Elmendorf AFB Co: AK 99506-

Landholding Agency: Air Force

Property Number: 18199930001

Status: Unutilized

Reason: Within airport runway clear zone

Bldg. 4905

Elmendorf AFB

Elmendorf AFB Co: AK 99506-

Landholding Agency: Air Force

Property Number: 18199930002

Status: Unutilized

Reasons: Within airport runway clear zone, Secured Area

Bldg. 4913

Elmendorf AFB

Elmendorf AFB Co: AK 99506-

Landholding Agency: Air Force

Property Number: 18199930003

Status: Unutilized

Reasons: Within airport runway clear zone, Secured Area

Bldg. 5887

Elmendorf AFB

Elmendorf AFB Co: AK 99506-

Landholding Agency: Air Force

Property Number: 18199930004

Status: Unutilized

Reasons: Within 2000 ft. of flammable or explosive material, Within airport runway clear zone, Secured Area

Bldg. 10449

Elmendorf AFB

Elmendorf AFB Co: AK 99506-

Landholding Agency: Air Force

Property Number: 18199930005

Status: Unutilized

Reason: Secured Area

Bldg. 12759

Elmendorf AFB

Elmendorf AFB Co: AK 99506-

Landholding Agency: Air Force

Property Number: 18199930006

Status: Unutilized

Reasons: Within 2000 ft. of flammable or explosive material, Secured Area, Extensive deterioration

Bldg. 4305

Elmendorf AFB

Anchorage Co: AK 99506-

Landholding Agency: Air Force

Property Number: 18200030001

Status: Unutilized

Reasons: Within 2000 ft. of flammable or explosive material, Secured Area, Extensive deterioration

Bldg. 15526

Elmendorf AFB

Anchorage Co: AK 99506-

Landholding Agency: Air Force

Property Number: 18200030005

Status: Unutilized

Reasons: Within airport runway clear zone, Secured Area

Bldg. 15534

Elmendorf AFB

Anchorage Co: AK 99506-

Landholding Agency: Air Force

Property Number: 18200030006

Status: Unutilized

Reasons: Within airport runway clear zone, Secured Area

Bldg. 10549

Elmendorf AFB

Elmendorf AFB Co: AK 99506-

Landholding Agency: Air Force

Property Number: 18200120001

Status: Unutilized

Reasons: Within 2000 ft. of flammable or explosive material, Secured Area, Extensive deterioration

Bldg. 11634

Elmendorf AFB

Elmendorf AFB Co: AK 99506-

Landholding Agency: Air Force

Property Number: 18200120002

Status: Unutilized

Reasons: Within 2000 ft. of flammable or explosive material, Secured Area, Extensive deterioration

Bldg. 14545

Elmendorf AFB

Elmendorf AFB Co: AK 99506-

Landholding Agency: Air Force

Property Number: 18200120003

Status: Unutilized

Reason: Secured Area

Bldg. 16504

Elmendorf AFB

Elmendorf AFB Co: AK 99506-

Landholding Agency: Air Force

Property Number: 18200120004

Status: Unutilized

Reasons: Within airport runway clear zone, Secured Area

Arizona

Facility 90002

Holbrook Radar Site

Holbrook Co: Navajo AZ 86025-

Landholding Agency: Air Force

Property Number: 18199340049

Status: Unutilized

Reason: Within airport runway clear zone

Bldgs. 301, 302, 303, 304

Lake Mead

Willow Beach Co: Mojave AZ

Landholding Agency: Interior

Property Number: 61200130012

Status: Unutilized

Reason: Extensive deterioration

Arkansas

Dwelling

Bull Shoals Lake/Dry Run Road

Oakland Co: Marion AR 72661-

Landholding Agency: COE

Property Number: 31199820001

Status: Unutilized

Reason: Extensive deterioration

Antenna Tower Site

FAA

Pine Bluff Co: Jefferson AR 71601-

Landholding Agency: GSA

Property Number: 54200210015

Status: Surplus

Reason: Secured Area

GSA Number: 7 D-AR-0558-2

California

Bldg. 707 63 ABG/DE

Norton Air Force Base

Norton Co: San Bernadino CA 92409-5045

Landholding Agency: Air Force

Property Number: 18199010193

Status: Excess

Reasons: Within 2000 ft. of flammable or explosive material, Secured Area

Bldg. 575 63 ABG/DE

Norton Air Force Base

Norton Co: San Bernadino CA 92409-5045

Landholding Agency: Air Force

Property Number: 18199010195

Status: Excess

Reason: Within 2000 ft. of flammable or explosive material

Bldg. 502 63 ABG/DE

Norton Air Force Base

Lorton Co: San Bernadino CA 92409-5045

Landholding Agency: Air Force

Property Number: 18199010196

Status: Excess

Reasons: Within 2000 ft. of flammable or explosive material, Secured Area

Bldg. 23 63 ABG/DE

Norton Air Force Base

Norton Co: San Bernadino CA 92409-5045

Landholding Agency: Air Force

Property Number: 18199010197

Status: Excess

Reasons: Within 2000 ft. of flammable or explosive material, Secured Area.

Bldg. 100

Point Arena Air Force Station

(See County) Co: Mendocino CA 95468-5000

Landholding Agency: Air Force

Property Number: 18199010233

Status: Unutilized

Reason: Secured Area

Bldg. 101

Point Arena Air Force Station

(See County) Co: Mendocino CA 95468-5000

Landholding Agency: Air Force

Property Number: 18199010234

Status: Underutilized

Reason: Secured Area

Bldg. 116

Point Arena Air Force Station

(See County) Co: Mendocino CA 95468-5000

Landholding Agency: Air Force

Property Number: 18199010235

Status: Unutilized

Reason: Secured Area

Bldg. 202

Point Arena Air Force Station

(See County) Co: Mendocino CA 95468-5000

Landholding Agency: Air Force

Property Number: 18199010236

Status: Unutilized

Reason: Secured Area

Bldg. 201

Vandenberg Air Force Base

Point Arguello

Vandenberg AFB Co: Santa Barbara CA 93437-

Location: Highway 1, Highway 246, Coast Road, Pt Sal Road, Miguelito Cyn

Landholding Agency: Air Force

Property Number: 18199010546

Status: Unutilized

Reason:

Secured Area

Bldg. 202

Vandenberg Air Force Base

Point Arguello

Vandenberg AFB Co: Santa Barbara CA 93437-

Location: Highway 1, Highway 246, Coast Road, Pt Sal Road, Miguelito Cyn

Landholding Agency: Air Force

Property Number: 18199010547

Status: Unutilized

Reason: Secured Area

Bldg. 203

Vandenberg Air Force Base

Point Arguello

Vandenberg AFB Co: Santa Barbara CA 93437-

Location: Highway 1, Highway 246, Coast Road, Pt Sal Road, Miguelito Cyn.

Landholding Agency: Air Force

Property Number: 18199010548

Status: Unutilized

Reason: Secured Area

Bldg. 204

Vandenberg Air Force Base

Point Arguello

Vandenberg AFB Co: Santa Barbara CA 93437-

Location: Highway 1, Highway 246, Coast Road, Pt SaFPL Road, Miguelito Cyn.

Landholding Agency: Air Force

Property Number: 18199010549

Status: Unutilized

Reason: Secured Area

Bldg. 1823

Vandenberg Air Force Base

Vandenberg AFB Co: Santa Barbara CA 93437-

Location: Hwy 1, Hwy 246, Coast Road, PT Sal Rd., Miguelito CYN

Landholding Agency: Air Force

Property Number: 18199130360

Status: Excess

Reasons: Within 2000 ft. of flammable or explosive material, Secured Area

Bldg. 16104, Vandenberg AFB

Vandenberg AFB Co: Santa Barbara CA 93437-

Location: Hwy 1, Hwy 246; Coast Rd., Pt Sal Rd.; Miguelito Cyn

Landholding Agency: Air Force

Property Number: 18199230020

Status: Underutilized

Reason: Secured Area

Bldg. 5428, Vandenberg AFB

Vandenberg Co: Santa Barbara CA 93437-

Landholding Agency: Air Force

Property Number: 18199310015

Status: Unutilized

Reason: Secured Area

Bldg. 7304, Vandenberg AFB

Vandenberg Co: Santa Barbara CA 93437-

Landholding Agency: Air Force

Property Number: 18199310030

Status: Unutilized

Reason: Secured Area

Bldg. 8215

Vandenberg Air Force Base

Vandenberg AFB Co: Santa Barbara CA 93437-

Landholding Agency: Air Force

Property Number: 18199330016

Status: Unutilized

Reason: Secured Area

Bldg. 1988

Vandenberg Air Force Base

Vandenberg AFB Co: Santa Barbara CA 93437-

Landholding Agency: Air Force

Property Number: 18199340003

Status: Unutilized

Reasons: Electrical Power Generator Bldg, Secured Area

Bldg. 1324

Vandenberg Air Force Base

Vandenberg AFB Co: Santa Barbara CA 93437-

Landholding Agency: Air Force

Property Number: 18199340006

Status: Unutilized

Reason: Secured Area

Bldg. 1341

Vandenberg Air Force Base

Vandenberg AFB Co: Santa Barbara CA 93437-

Landholding Agency: Air Force

Property Number: 18199340007

Status: Unutilized

Reason: Secured Area

Bldg. 1955

Vandenberg Air Force Base

Vandenberg AFB Co: Santa Barbara CA 93437-

Landholding Agency: Air Force

Property Number: 18199340008

Status: Unutilized

Reason: Secured Area

Bldg. 16164

Vandenberg Air Force Base

Vandenberg AFB Co: Santa Barbara CA 93437-

Landholding Agency: Air Force

Property Number: 18199340028

Status: Unutilized

Reason: Secured Area

Bldg. 422

Vandenberg Air Force Base

Vandenberg AFB Co: Santa Barbara CA 93437-

Landholding Agency: Air Force

Property Number: 18199530029

Status: Unutilized

Reasons: Secured Area, Extensive deterioration

Bldg. 431

Vandenberg Air Force Base

Vandenberg AFB Co: Santa Barbara CA 93437-

Landholding Agency: Air Force

Property Number: 18199530030

Status: Unutilized

Reasons: Secured Area, Extensive deterioration

Bldg. 470

Vandenberg Air Force Base

Vandenberg AFB Co: Santa Barbara CA 93437-

Landholding Agency: Air Force

Property Number: 18199530031

Status: Unutilized

Reasons: Secured Area, Extensive deterioration

Bldg. 480

Vandenberg Air Force Base

Vandenberg AFB Co: Santa Barbara CA 93437-

Landholding Agency: Air Force

Property Number: 18199530032

Status: Unutilized

Reasons: Secured Area, Extensive deterioration

Bldg. 6606

Vandenberg Air Force Base

Vandenberg AFB Co: Santa Barbara CA 93437-

Landholding Agency: Air Force

Property Number: 18199530037

Status: Unutilized

Reasons: Secured Area, Extensive deterioration

Bldg. 10717

Vandenberg Air Force Base

Vandenberg AFB Co: Santa Barbara CA 93437-

Landholding Agency: Air Force

Property Number: 18199530041

Status: Unutilized

Reasons: Secured Area, Extensive deterioration

Bldg. 10722

Vandenberg Air Force Base

Vandenberg AFB Co: Santa Barbara CA 93437-

Landholding Agency: Air Force

Property Number: 18199530043

Status: Unutilized

Reasons: Secured Area, Extensive deterioration

Bldg. 13003

Vandenberg AFB

Vandenberg AFB Co: Santa Barbara CA 93437-

Landholding Agency: Air Force

Property Number: 18199620031

Status: Unutilized

Reasons: Secured Area, Extensive deterioration

Bldg. 13222

Vandenberg AFB

Vandenberg AFB Co: Santa Barbara CA 93437-

Landholding Agency: Air Force

Property Number: 18199620032

Status: Unutilized

Reasons: Secured Area, Extensive deterioration

Bldg. 815

Vandenberg AFB

Vandenberg AFB Co: Santa Barbara CA 93437-

Landholding Agency: Air Force

Property Number: 18199630040

Status: Unutilized

Reasons: Secured Area, Extensive deterioration

Bldg. 1850

Vandenberg AFB

Vandenberg AFB Co: Santa Barbara CA 93437-

Landholding Agency: Air Force

Property Number: 18199630041

Status: Unutilized

Reasons: Secured Area, Extensive deterioration

Bldg. 1853

Vandenberg AFB

Vandenberg AFB Co: Santa Barbara CA 93437-

Landholding Agency: Air Force

Property Number: 18199630042

Status: Unutilized

Reasons: Secured Area, Extensive deterioration

Bldg. 1856

Vandenberg AFB

Vandenberg AFB Co: Santa Barbara CA 93437-

Landholding Agency: Air Force

Property Number: 18199630043

Status: Unutilized

Reasons: Secured Area, Extensive deterioration

Bldg. 1865

Vandenberg AFB

Vandenberg AFB Co: Santa Barbara CA 93437-

Landholding Agency: Air Force

Property Number: 18199630044

Status: Unutilized

Reasons: Secured Area, Extensive deterioration

Bldg. 1874

Vandenberg AFB

Vandenberg AFB Co: Santa Barbara CA 93437-

Landholding Agency: Air Force

Property Number: 18199630045

Status: Unutilized

Reasons: Secured Area, Extensive deterioration

Bldg. 1875

Vandenberg AFB

Vandenberg AFB Co: Santa Barbara CA 93437-

Landholding Agency: Air Force

Property Number: 18199630046

Status: Unutilized

Reasons: Secured Area, Extensive deterioration

Bldg. 1877

Vandenberg AFB

Vandenberg AFB Co: Santa Barbara CA 93437-

Landholding Agency: Air Force

Property Number: 18199630047

Status: Unutilized

Reasons: Secured Area, Extensive deterioration

Bldg. 1879

Vandenberg AFB

Vandenberg AFB Co: Santa Barbara CA 93437-

Landholding Agency: Air Force

Property Number: 18199630048

Status: Unutilized

Reasons: Secured Area, Extensive deterioration

Bldg. 1885

Vandenberg AFB

Vandenberg AFB Co: Santa Barbara CA 93437-

Landholding Agency: Air Force

Property Number: 18199630049

Status: Unutilized

Reasons: Secured Area, Extensive deterioration

Bldg. 1898

Vandenberg AFB

Vandenberg AFB Co: Santa Barbara CA 93437-

Landholding Agency: Air Force

Property Number: 18199630050

Status: Unutilized

Reasons: Secured Area, Extensive deterioration

Bldg. 06445

Vandenberg AFB

Vandenberg AFB Co: Santa Barbara CA 93437-

Landholding Agency: Air Force

Property Number: 18199630052

Status: Unutilized

Reasons: Secured Area, Extensive deterioration

Bldg. 21160

Vandenberg AFB

Vandenberg AFB Co: Santa Barbara CA 93437-

Landholding Agency: Air Force

Property Number: 18199630055

Status: Unutilized

Reasons: Secured Area, Extensive deterioration

Bldg. 06437

Vandenberg Air Force Base

Vandenberg AFB Co: Santa Barbara CA 93437-

Landholding Agency: Air Force

Property Number: 18199710014

Status: Unutilized

Reasons: Secured Area, Extensive deterioration

Bldg. 10715

Vandenberg Air Force Base

Vandenberg AFB Co: Santa Barbara CA 93437-

Landholding Agency: Air Force

Property Number: 18199710016

Status: Unutilized

Reasons: Secured Area, Extensive deterioration

Bldg. 00879

Vandenberg AFB

Vandenberg AFB Co: Santa Barbara CA 93437-

Landholding Agency: Air Force

Property Number: 18199720009

Status: Unutilized

Reasons: Secured Area, Extensive deterioration

Bldg. 01630

Vandenberg AFB

Vandenberg AFB Co: Santa Barbara CA 93437-

Landholding Agency: Air Force

Property Number: 18199720011

Status: Unutilized

Reasons: Secured Area, Extensive deterioration

Bldg. 01797

Vandenberg AFB

Vandenberg AFB Co: Santa Barbara CA 93437-

Landholding Agency: Air Force

Property Number: 18199720012

Status: Unutilized

Reasons: Secured Area, Extensive deterioration

Bldg. 01830

Vandenberg AFB

Vandenberg AFB Co: Santa Barbara CA 93437-

Landholding Agency: Air Force

Property Number: 18199720013

Status: Unutilized

Reasons: Secured Area, Extensive deterioration

Bldg. 01852

Vandenberg AFB

Vandenberg AFB Co: Santa Barbara CA 93437-

Landholding Agency: Air Force

Property Number: 18199720014

Status: Unutilized

Reasons: Secured Area, Extensive deterioration

Bldg. 11345

Vandenberg AFB

Vandenberg AFB Co: Santa Barbara CA 93437-

Landholding Agency: Air Force

Property Number: 18199720019

Status: Unutilized

Reasons: Secured Area, Extensive deterioration

Bldg. 14019

Vandenberg AFB

Vandenberg AFB Co: Santa Barbara CA 93437-

Landholding Agency: Air Force

Property Number: 18199720022

Status: Unutilized

Reasons: Secured Area, Extensive deterioration

Bldg. 14026

Vandenberg AFB

Vandenberg AFB Co: Santa Barbara CA 93437-

Landholding Agency: Air Force

Property Number: 18199720023

Status: Unutilized

Reasons: Secured Area, Extensive deterioration

Bldg. 22300

Vandenberg Air Force Base

Vandenberg AFB Co: Santa Barbara CA 93437-

Landholding Agency: Air Force

Property Number: 18199730002

Status: Unutilized

Reasons: Secured Area, Extensive deterioration

Bldg. 08412

Vandenberg AFB

Vandenberg AFB Co: Santa Barbara CA 93437-

Landholding Agency: Air Force

Property Number: 18199740006

Status: Unutilized

Reason: Secured Area

Bldg. 11153

Vandenberg AFB

Vandenberg AFB Co: Santa Barbara CA 93437-

Landholding Agency: Air Force

Property Number: 18199740007

Status: Unutilized

Reason: Secured Area

Bldgs. 2-11, 20-21

Edwards AFB

P-Area Housing

Edwards AFB Co: Kern CA 93524-

Landholding Agency: Air Force

Property Number: 18199810029

Status: Unutilized

Reason: Extensive deterioration

Bldg. 1681

Vandenberg AFB

Co: Santa Barbara CA 93437-

Landholding Agency: Air Force

Property Number: 18199820003

Status: Unutilized

Reasons: Secured Area, Extensive deterioration

Bldg. 01839

Vandenberg AFB

Co: Santa Barbara CA 93437-

Landholding Agency: Air Force

Property Number: 18199820004

Status: Unutilized

Reasons: Secured Area, Extensive deterioration

Bldg. 06519

Vandenberg AFB

Co: Santa Barbara CA 93437-

Landholding Agency: Air Force

Property Number: 18199820005

Status: Unutilized

Reasons: Secured Area, Extensive deterioration

Bldg. 06526

Vandenberg AFB

Co: Santa Barbara CA 93437-

Landholding Agency: Air Force

Property Number: 18199820006

Status: Unutilized

Reasons: Secured Area, Extensive deterioration

Bldg. 11167

Vandenberg AFB

Co: Santa Barbara CA 93437-

Landholding Agency: Air Force

Property Number: 18199820007

Status: Unutilized

Reasons: Secured Area, Extensive deterioration

Bldg. 11168

Vandenberg AFB

Co: Santa Barbara CA 93437-

Landholding Agency: Air Force

Property Number: 18199820008

Status: Unutilized

Reasons: Secured Area, Extensive deterioration

Bldg. 13024

Vandenberg AFB

Vandenberg AFB Co: Santa Barbara CA 93437-

Landholding Agency: Air Force

Property Number: 18200030010

Status: Unutilized

Reasons: Secured Area, Extensive deterioration

Bldg. 6436

Vandenberg AFB

Vandenberg AFB Co: Santa Barbara CA 93437-

Landholding Agency: Air Force

Property Number: 18200040001

Status: Unutilized

Reason: Extensive deterioration

Bldg. 10600

Vandenberg AFB

Santa Barbara Co: CA 93437-

Landholding Agency: Air Force

Property Number: 18200120005

Status: Unutilized

Reason: Secured Area

Bldg. 10605

Vandenberg AFB

Santa Barbara Co: CA 93437-

Landholding Agency: Air Force

Property Number: 18200120006

Status: Unutilized

Reason: Secured Area

Bldg. 16109

Vandenberg AFB

Santa Barbara Co: CA 93437-

Landholding Agency: Air Force

Property Number: 18200120007

Status: Unutilized

Reasons: Secured Area, Extensive deterioration

Bldg. 00884

Vandenberg AFB

Vandenberg AFB Co: Santa Barbara CA 93437-

Landholding Agency: Air Force

Property Number: 18200130001

Status: Unutilized

Reason: Extensive deterioration

Bldg. 13607

Vandenberg AFB

Vandenberg AFB Co: Santa Barbara CA 93437-

Landholding Agency: Air Force

Property Number: 18200130002

Status: Unutilized

Reason: Extensive deterioration

Soil & Materials Testing Lab

Sausalito Co: CA 00000-

Landholding Agency: COE

Property Number: 31199920002

Status: Excess

Reason: Contamination

Parker Dam Govt Housing Camp

Township 2 North

San Bernardino Co: CA 92401-

Landholding Agency: Interior

Property Number: 61199930001

Status: Excess

Reason: Extensive deterioration

Brock Research Center

Range 19E

Imperial Valley Co: Imperial CA

Landholding Agency: Interior

Property Number: 61200140001

Status: Excess

Reason: Extensive deterioration

Bldg. 799

Naval Air Station

North Island Co: CA

Landholding Agency: Navy

Property Number: 77200210064

Status: Excess

Reason: Extensive deterioration

Colorado

Bldg. 00910

“Blue Barn”—Falcon Air Force Base

Falcon Co: El Paso CO 80912-

Landholding Agency: Air Force

Property Number: 18199530046

Status: Underutilized

Reason: Secured Area

Bldg. 9214

U.S. Air Force Academy

Colorado Springs Co: El Paso CO 80814-2400

Landholding Agency: Air Force

Property Number: 18199730012

Status: Underutilized

Reasons: Within airport runway clear zone, Secured Area

Bldg. 8412

Air Force Academy

El Paso Co: CO 80840-2400

Landholding Agency: Air Force

Property Number: 18200120008

Status: Unutilized

Reason: Within airport runway clear zone

Bldg. 440

Buckley AFB

Aurora Co: Arapahoe CO 80011-

Landholding Agency: Air Force

Property Number: 18200130003

Status: Unutilized

Reason: Secured Area

Bldg. 441

Buckley AFB

Aurora Co: Arapahoe CO 80011-

Landholding Agency: Air Force

Property Number: 18200130004

Status: Unutilized

Reason: Secured Area

Connecticut

Bldg. 13

Bradley International Airport

East Granby Co: Hartford CT 06026-9309

Landholding Agency: Air Force

Property Number: 18199640002

Status: Unutilized

Reasons: Within 2000 ft. of flammable or explosive material, Secured Area

Bldg. 10

Bradley International Airport

East Granby Co: Hartford CT 06026-9309

Landholding Agency: Air Force

Property Number: 18199640003

Status: Unutilized

Reasons: Within 2000 ft. of flammable or explosive material, Secured Area

Bldg. 5

Bradley International Airport

East Granby Co: Hartford CT 06026-9309

Landholding Agency: Air Force

Property Number: 18199640004

Status: Unutilized

Reason: Within 2000 ft. of flammable or explosive material

Bldg. 4

Bradley International Airport

East Granby Co: Hartford CT 06026-9309

Landholding Agency: Air Force

Property Number: 18199640005

Status: Unutilized

Reason: Within 2000 ft. of flammable or explosive material

Hezekiah S. Ramsdell Farm

West Thompson Lake

North Grosvenordale Co: Windham CT 06255-9801

Landholding Agency: COE

Property Number: 31199740001

Status: Unutilized

Reasons: Floodway, Extensive deterioration

Florida

Bldg. 575

Patrick Air Force Base

Co: Brevard FL 32925-

Landholding Agency: Air Force

Property Number: 18199320004

Status: Unutilized

Reasons: Within 2000 ft. of flammable or explosive material, Within airport runway clear zone, Extensive Deterioration, Secured Area

23 Family Housing

MacDill Auxiliary Airfield No. 1

Avon Park Co: Polk FL 33825-

Location: Include Bldgs: 448, 451 thru 470, 472 and 474

Landholding Agency: Air Force

Property Number: 18199520006

Status: Excess

Reason: Within airport runway clear zone

Bldg. 240

MacDill Auxiliary Airfield No. 1

Avon Park Co: Polk FL 33825-

Landholding Agency: Air Force

Property Number: 18199520007

Status: Excess

Reason: Extensive deterioration

Bldg. 315

Patrick Air Force Base

Patrick AFB Co: Brevard FL

Landholding Agency: Air Force

Property Number: 18199710023

Status: Unutilized

Reason: Secured Area

Bldg. 317

Patrick Air Force Base

Patrick AFB Co: Brevard FL

Landholding Agency: Air Force

Property Number: 18199710024

Status: Unutilized

Reasons: Secured Area, Extensive deterioration

Bldg. 318

Patrick Air Force Base

Patrick AFB Co: Brevard FL

Landholding Agency: Air Force

Property Number: 18199710025

Status: Unutilized

Reasons: Secured Area, Extensive deterioration

Facility No. 10831

Cape Canaveral Air Station

Cape Canaveral AS Co: Brevard FL 32925-

Landholding Agency: Air Force

Property Number: 18199710033

Status: Unutilized

Reason: Secured Area

Facility No. 70662

Cape Canaveral Air Station

Cape Canaveral AS Co: Brevard FL 32925-

Landholding Agency: Air Force

Property Number: 18199710037

Status: Unutilized

Reasons: Secured Area, Extensive deterioration

Bldg. 895, Eglin AFB

Eglin AFB Co: Okaloosa FL 32542-5133

Landholding Agency: Air Force

Property Number: 18199710045

Status: Unutilized

Reason: Extensive deterioration

Bldg. 744

Eglin AFB

Co: Okaloosa FL 32542-5133

Landholding Agency: Air Force

Property Number: 18199820009

Status: Unutilized

Reasons: Secured Area, Extensive deterioration

Bldg. 3008

Eglin AFB

Co: Okaloosa FL 32542-5133

Landholding Agency: Air Force

Property Number: 18199820010

Status: Unutilized

Reasons: Secured Area, Extensive deterioration

Bldg. 3010

Eglin AFB

Co: Okaloosa FL 32542-5133

Landholding Agency: Air Force

Property Number: 18199820011

Status: Unutilized

Reasons: Secured Area, Extensive deterioration

Bldg. 12709

Eglin AFB

Co: Okaloosa FL 32542-5133

Landholding Agency: Air Force

Property Number: 18199820012

Status: Unutilized

Reasons: Secured Area, Extensive deterioration

Bldg. 08807

Cape Canaveral Air Station

Co: Brevard FL 32925-

Landholding Agency: Air Force

Property Number: 18199820013

Status: Unutilized

Reason: Secured Area

Facility 44608

Cape Canaveral Air Station

Co: Brevard FL 32925-

Landholding Agency: Air Force

Property Number: 18199830006

Status: Unutilized

Reasons: Within 2000 ft. of flammable or explosive material, Secured Area

Bldg. 12577

Eglin AFB

Santa Rosa Island

Okaloosa Co: FL 32542-5133

Landholding Agency: Air Force

Property Number: 18199910001

Status: Unutilized

Reasons: Floodway, Secured Area, Extensive deterioration

Bldg. 12576

Eglin AFB

Santa Rosa Island

Okaloosa Co: FL 32542-5133

Landholding Agency: Air Force

Property Number: 18199910002

Status: Unutilized

Reasons: Floodway, Secured Area, Extensive deterioration

Bldg. 12534

Eglin AFB

Santa Rosa Island

Okaloosa Co: FL 32542-5133

Landholding Agency: Air Force

Property Number: 18199910003

Status: Unutilized

Reasons: Floodway, Secured Area, Extensive deterioration

Bldg. 12533

Eglin AFB

Santa Rosa Island

Okaloosa Co: FL 32542-5133

Landholding Agency: Air Force

Property Number: 18199910004

Status: Unutilized

Reasons: Floodway, Secured Area, Extensive deterioration

Bldg. 12528

Eglin AFB

Santa Rosa Island

Okaloosa Co: FL 32542-5133

Landholding Agency: Air Force

Property Number: 18199910005

Status: Unutilized

Reasons: Floodway, Secured Area, Extensive deterioration

Bldg. 9281

Eglin AFB

Santa Rosa Island

Okaloosa Co: FL 32542-5133

Landholding Agency: Air Force

Property Number: 18199910006

Status: Unutilized

Reasons: Floodway, Secured Area, Extensive deterioration

Bldg. 9280

Eglin AFB

Santa Rosa Island

Okaloosa Co: FL 32542-5133

Landholding Agency: Air Force

Property Number: 18199910007

Status: Unutilized

Reasons: Floodway, Secured Area, Extensive deterioration

Bldg. 609

Eglin AFB

Okaloosa Co: FL 32542-5133

Landholding Agency: Air Force

Property Number: 18199910008

Status: Unutilized

Reasons: Secured Area, Extensive deterioration

Facility 1737

Cape Canaveral Air Station

Cape Canaveral Co: Brevard FL 32907-

Landholding Agency: Air Force

Property Number: 18199920002

Status: Underutilized

Reason: Secured Area

Bldg. 1704

Eglin AFB

Eglin AFB Co: Okaloosa FL 32542-

Landholding Agency: Air Force

Property Number: 18199930007

Status: Unutilized

Reasons: Floodway, Secured Area, Extensive deterioration

Facility 90330

Cape Canaveral Air Station

Cape Canaveral Co: Brevard FL 32907-

Landholding Agency: Air Force

Property Number: 18199940008

Status: Unutilized

Reason: Secured Area

Bldg. 72905

Cape Canaveral AFS

Brevard Co: FL 32907-

Landholding Agency: Air Force

Property Number: 18200020006

Status: Unutilized

Reasons: Within 2000 ft. of flammable or explosive material, Secured Area

Facility 935

Patrick AFB

Patrick AFB Co: Brevard FL 32925-

Landholding Agency: Air Force

Property Number: 18200030011

Status: Unutilized

Reason: Secured Area

Facility 990

Patrick AFB

Patrick AFB Co: FL 32925-

Landholding Agency: Air Force

Property Number: 18200030012

Status: Unutilized

Reason: Secured Area

Key Largo Beacon Annex

Key Largo Co: Monroe FL 33037-

Landholding Agency: Air Force

Property Number: 18200210001

Status: Unutilized

Reason: Extensive deterioration

Georgia

Bldgs. 1180-1185

Robins AFB

Warner Robins Co: GA 31098-2207

Landholding Agency: Air Force

Property Number: 18200010005

Status: Unutilized

Reason: Extensive deterioration

Bldg. 274

Robins AFB

Warner Robins Co: GA

Landholding Agency: Air Force

Property Number: 18200130005

Status: Unutilized

Reason: Extensive deterioration

Bldg. 311

Robins AFB

Warner Robins Co: GA

Landholding Agency: Air Force

Property Number: 18200130006

Status: Unutilized

Reason: Extensive deterioration

Bldg. 930

Robins AFB

Warner Robins Co: GA

Landholding Agency: Air Force

Property Number: 18200130007

Status: Unutilized

Reason: Extensive deterioration

Bldg. 2071

Robins AFB

Warner Robins Co: GA

Landholding Agency: Air Force

Property Number: 18200130008

Status: Unutilized

Reason: Extensive deterioration

Bldg. 811

Robins AFB

Warner Robins Co: GA 31098-

Landholding Agency: Air Force

Property Number: 18200130017

Status: Unutilized

Reason: Extensive deterioration

Guam

Andersen South

Andersen Admin. Annex

360 housing units & a commercial structure

Mangilao GU 96923-

Landholding Agency: Air Force

Property Number: 18199840009

Status: Underutilized

Reason: Secured Area

68 Units

Naval Forces

South Tipalao Area

Marianas Co: GU

Landholding Agency: Navy

Property Number: 77200210065

Status: Excess

Reason: Secured Area

36 Units

Naval Forces

North Tipalao Area

Marianas Co: GU

Landholding Agency: Navy

Property Number: 77200210066

Status: Excess

Reason: Secured Area

130 Units

Naval Forces

South Finegayan Area

Marianas Co: GU

Landholding Agency: Navy

Property Number: 77200210067

Status: Excess

Reason: Secured Area

64 Units

Naval Forces

North Finegayan Area

Marianas Co: GU

Landholding Agency: Navy

Property Number: 77200210068

Status: Excess

Reason: Secured Area

158 Units

Naval Forces

North Finegayan Area

Marianas Co: GU

Landholding Agency: Navy

Property Number: 77200210069

Status: Excess

Reason: Secured Area

Idaho

Bldg. 1012

Mountain Home Air Force Base

7th Avenue

(See County) Co: Elmore ID 83648-

Landholding Agency: Air Force

Property Number: 18199030004

Status: Excess

Reason: Within 2000 ft. of flammable or explosive material

Bldg. 923

Mountain Home Air Force Base

7th Avenue

(See County) Co: Elmore ID 83648-

Landholding Agency: Air Force

Property Number: 18199030005

Status: Excess

Reason: Within 2000 ft. of flammable or explosive material

Bldg. 604

Mountain Home Air Force Base

Pine Street

(See County) Co: Elmore ID 83648-

Landholding Agency: Air Force

Property Number: 18199030006

Status: Excess

Reason: Within 2000 ft. of flammable or explosive material

Bldg. 229

Mt. Home Air Force Base

1st Avenue and A Street

Mt. Home AFB Co: Elmore ID 83648-

Landholding Agency: Air Force

Property Number: 18199040857

Status: Unutilized

Reasons: Within 2000 ft. of flammable or explosive material, Within airport runway clear zone

Bldg. 4403

Mountain Home Air Force Base

Mountain Home Co: Elmore ID 83647-

Landholding Agency: Air Force

Property Number: 18199520008

Status: Unutilized

Reason: Extensive deterioration

Bldg. 101

Mountain Home Air Force Base

Co: Elmore ID 83648-

Landholding Agency: Air Force

Property Number: 18199840001

Status: Unutilized

Reason: Extensive deterioration

Bldg. 105

Mountain Home Air Force Base

Co: Elmore ID 83648-

Landholding Agency: Air Force

Property Number: 18199840002

Status: Unutilized

Reason: Extensive deterioration

Bldg. AFD0070

Albeni Falls Dam

Oldtown Co: Bonner ID 83822-

Landholding Agency: COE

Property Number: 31199910001

Status: Unutilized

Reason: Extensive deterioration

Iowa

Bldg. 00671

Sioux Gateway Airport

Sioux Co: Woodbury IA 51110-

Landholding Agency: Air Force

Property Number: 18199310009

Status: Unutilized

Reason: Fuel pump station

Bldg. 00736

Sioux Gateway Airport

Sioux Co: Woodbury IA 51110-

Landholding Agency: Air Force

Property Number: 18199310010

Status: Unutilized

Reason: Pump station

Kansas

Bldg. 2703

Forbes Field

Topeka KS

Landholding Agency: Air Force

Property Number: 18199820018

Status: Unutilized

Reason: Extensive deterioration

No. 01017

Kanopolis Project

Marquette Co: Ellsworth KS 67456-

Landholding Agency: COE

Property Number: 31200210001

Status: Unutilized

Reason: Extensive deterioration

No. 01020

Kanopolis Project

Marquette Co: Ellsworth KS 67456-

Landholding Agency: COE

Property Number: 31200210002

Status: Unutilized

Reason: Extensive deterioration

No. 61001

Kanopolis Project

Marquette Co: Ellsworth KS 67456-

Landholding Agency: COE

Property Number: 31200210003

Status: Unutilized

Reason: Extensive deterioration

Kentucky

Spring House

Kentucky River Lock and Dam No. 1

Highway 320

Carrollton Co: Carroll KY 41008-

Landholding Agency: COE

Property Number: 21199040416

Status: Unutilized

Reason: Spring House

6-Room Dwelling

Green River Lock and Dam No. 3

Rochester Co: Butler KY 42273-

Location: Off State Hwy 369, which runs off of Western Ky. Parkway

Landholding Agency: COE

Property Number: 31199120010

Status: Unutilized

Reason: Floodway

2-Car Garage

Green River Lock and Dam No. 3

Rochester Co: Butler KY 42273-

Location: Off State Hwy 369, which runs off of Western Ky. Parkway

Landholding Agency: COE

Property Number: 31199120011

Status: Unutilized

Reason: Floodway

Office and Warehouse

Green River Lock and Dam No. 3

Rochester Co: Butler KY 42273-

Location: Off State Hwy 369, which runs off of Western Ky. Parkway

Landholding Agency: COE

Property Number: 31199120012

Status: Unutilized

Reason: Floodway

2 Pit Toilets

Green River Lock and Dam No. 3

Rochester Co: Butler KY 42273-

Landholding Agency: COE

Property Number: 31199120013

Status: Unutilized

Reason: Floodway

Louisiana

Bldg. 3477

Barksdale Air Force Base

Davis Avenue

Barksdale AFB Co: Bossier LA 71110-5000

Landholding Agency: Air Force

Property Number: 18199140015

Status: Unutilized

Reason: Secured Area

Maryland

Bldg. 3542

Andrews AFB

Andrews AFB MD 20652-25177

Landholding Agency: Air Force

Property Number: 18199810010

Status: Unutilized

Reason: Secured Area

Bldg. 3543

Andrews AFB

Andrews AFB MD 20652-25177

Landholding Agency: Air Force

Property Number: 18199810011

Status: Unutilized

Reason: Secured Area

Bldg. 1226

Andrews AFB

Camp Springs Co: Prince George's MD 20762-

Landholding Agency: Air Force

Property Number: 18200040002

Status: Unutilized

Reason: Secured Area

Bldg. 3781

Andrews AFB

Andrews AFB Co: Princes George's MD 20762-

Landholding Agency: Air Force

Property Number: 18200130009

Status: Excess

Reasons: Secured Area, Extensive deterioration

Bldg. 3782

Andrews AFB

Andrews AFB Co: Princes George's MD 20762-

Landholding Agency: Air Force

Property Number: 18200130010

Status: Excess

Reasons: Secured Area, Extensive deterioration

Bldgs. 3783-1, 3783-2

Andrews AFB

Andrews AFB Co: Princes George's MD 20762-

Landholding Agency: Air Force

Property Number: 18200130011

Status: Excess

Reasons: Secured Area, Extensive deterioration

5 Bldgs.

Andrews AFB

#13001, 13017, 13019, 13035, 13037

Brandywine Co: Prince George's MD

Landholding Agency: Air Force

Property Number: 18200210002

Status: Excess

Reason: Within 2000 ft. of flammable or explosive material

7 Bldgs.

Andrews AFB

Brandywine Co: Prince George's MD

Location: #13003, 13005, 13015, 13021, 13033, 13039, 13041

Landholding Agency: Air Force

Property Number: 18200210003

Status: Excess

Reason: Within 2000 ft. of flammable or explosive material

Michigan

Bldg. 71

Calumet Air Force Station

Calumet Co: Keweenaw MI 49913-

Landholding Agency: Air Force

Property Number: 18199010810

Status: Excess

Reason: Sewage treatment and disposal facility

Bldg. 99 (WATER WELL)

Calumet Air Force Station

Calumet Co: Keweenaw MI 49913-

Landholding Agency: Air Force

Property Number: 18199010831

Status: Excess

Reason: Water well

Bldg. 100 (WATER WELL)

Calumet Air Force Station

Calumet Co: Keweenaw MI 49913-

Landholding Agency: Air Force

Property Number: 18199010832

Status: Excess

Reason: Water well

Bldg. 118

Calumet Air Force Station

Calumet Co: Keweenaw MI 49913-

Landholding Agency: Air Force

Property Number: 18199010875

Status: Excess

Reason: Gasoline Station

Bldg. 120

Calumet Air Force Station

Calumet Co: Keweenaw MI 49913-

Landholding Agency: Air Force

Property Number: 18199010876

Status: Excess

Reason: Gasoline Station

Bldg. 166

Calumet Air Force Station

Calumet Co: Keweenaw MI 49913-

Landholding Agency: Air Force

Property Number: 18199010877

Status: Excess

Reason: Pump lift station

Bldg. 168

Calumet Air Force Station

Calumet Co: Keweenaw MI 49913-

Landholding Agency: Air Force

Property Number: 18199010878

Status: Excess

Reason: Gasoline station

Bldg. 69

Calumet Air Force Station

Calumet Co: Keweenaw MI 49913-

Landholding Agency: Air Force

Property Number: 18199010889

Status: Excess

Reason: Sewer pump facility

Bldg. 2

Calumet Air Force Station

Calumet Co: Keweenaw MI 49913-

Landholding Agency: Air Force

Property Number: 18199010890

Status: Excess

Reason: Water pump station

Facility 20

Selfridge AFB

Mt. Clemens Co: Macomb MI 48045-5295

Landholding Agency: Air Force

Property Number: 18199630001

Status: Unutilized

Reasons: Within 2000 ft. of flammable or explosive material, Secured Area

Facility 21

Selfridge AFB

Mt. Clemens Co: Macomb MI 48045-5295

Landholding Agency: Air Force

Property Number: 18199630002

Status: Unutilized

Reasons: Within 2000 ft. of flammable or explosive material, Secured Area

Facility 30

Selfridge AFB

Mt. Clemens Co: Macomb MI 48045-5295

Landholding Agency: Air Force

Property Number: 18199630003

Status: Unutilized

Reasons: Within 2000 ft. of flammable or explosive material, Secured Area

Facility 98

Selfridge AFB

Mt. Clemens Co: Macomb MI 48045-5295

Landholding Agency: Air Force

Property Number: 18199630004

Status: Unutilized

Reasons: Within 2000 ft. of flammable or explosive material, Secured Area

Facility 103

Selfridge AFB

Mt. Clemens Co: Macomb MI 48045-5295

Landholding Agency: Air Force

Property Number: 18199630005

Status: Unutilized

Reasons: Within 2000 ft. of flammable or explosive material, Secured Area

Facility 116

Selfridge AFB

Mt. Clemens Co: Macomb MI 48045-5295

Landholding Agency: Air Force

Property Number: 18199630006

Status: Unutilized

Reasons: Within 2000 ft. of flammable or explosive material, Secured Area

Facility 129

Selfridge AFB

Mt. Clemens Co: Macomb MI 48045-5295

Landholding Agency: Air Force

Property Number: 18199630007

Status: Unutilized

Reasons: Within 2000 ft. of flammable or explosive material, Secured Area

Facility 152

Selfridge AFB

Mt. Clemens Co: Macomb MI 48045-5295

Landholding Agency: Air Force

Property Number: 18199630008

Status: Unutilized

Reasons: Within 2000 ft. of flammable or explosive material, Secured Area

Facility 156

Selfridge AFB

Mt. Clemens Co: Macomb MI 48045-5295

Landholding Agency: Air Force

Property Number: 18199630009

Status: Unutilized

Reasons: Within 2000 ft. of flammable or explosive material, Secured Area

Facility 181

Selfridge AFB

Mt. Clemens Co: Macomb MI 48045-5295

Landholding Agency: Air Force

Property Number: 18199630010

Status: Unutilized

Reasons: Within 2000 ft. of flammable or explosive material, Secured Area

Facility 509

Selfridge AFB

Mt. Clemens Co: Macomb MI 48045-5295

Landholding Agency: Air Force

Property Number: 18199630011

Status: Unutilized

Reasons: Within 2000 ft. of flammable or explosive material, Secured Area

Facility 562

Selfridge AFB

Mt. Clemens Co: Macomb MI 48045-5295

Landholding Agency: Air Force

Property Number: 18199630012

Status: Unutilized

Reasons: Within 2000 ft. of flammable or explosive material, Secured Area

Facility 573

Selfridge AFB

Mt. Clemens Co: Macomb MI 48045-5295

Landholding Agency: Air Force

Property Number: 18199630013

Status: Unutilized

Reason: Secured Area

Facility 801

Selfridge AFB

Mt. Clemens Co: Macomb MI 48045-5295

Landholding Agency: Air Force

Property Number: 18199630014

Status: Unutilized

Reasons: Within 2000 ft. of flammable or explosive material, Secured Area

Facility 827

Selfridge AFB

Mt. Clemens Co: Macomb MI 48045-5295

Landholding Agency: Air Force

Property Number: 18199630015

Status: Unutilized

Reasons: Within 2000 ft. of flammable or explosive material, Secured Area

Facility 832

Selfridge AFB

Mt. Clemens Co: Macomb MI 48045-5295

Landholding Agency: Air Force

Property Number: 18199630016

Status: Unutilized

Reasons: Within 2000 ft. of flammable or explosive material, Secured Area

Facility 833

Selfridge AFB

Mt. Clemens Co: Macomb MI 48045-5295

Landholding Agency: Air Force

Property Number: 18199630017

Status: Unutilized

Reasons: Within 2000 ft. of flammable or explosive material, Secured Area

Facility 1005

Selfridge AFB

Mt. Clemens Co: Macomb MI 48045-5295

Landholding Agency: Air Force

Property Number: 18199630018

Status: Unutilized

Reason: Secured Area

Facility 1012

Selfridge AFB

Mt. Clemens Co: Macomb MI 48045-5295

Landholding Agency: Air Force

Property Number: 18199630019

Status: Unutilized

Reason: Secured Area

Facility 1017

Selfridge AFB

Mt. Clemens Co: Macomb MI 48045-5295

Landholding Agency: Air Force

Property Number: 18199630020

Status: Unutilized

Reason:

Secured Area

Facility 1025

Selfridge AFB

Mt. Clemens Co: Macomb MI 48045-5295

Landholding Agency: Air Force

Property Number: 18199630021

Status: Unutilized

Reason: Secured Area

Facility 1031

Selfridge AFB

Mt. Clemens Co: Macomb MI 48045-5295

Landholding Agency: Air Force

Property Number: 18199630022

Status: Unutilized

Reason: Secured Area

Facility 1041

Selfridge AFB

Mt. Clemens Co: Macomb MI 48045-5295

Landholding Agency: Air Force

Property Number: 18199630023

Status: Unutilized

Reasons: Within 2000 ft. of flammable or explosive material, Secured Area

Facility 1445

Selfridge AFB

Mt. Clemens Co: Macomb MI 48045-5295

Landholding Agency: Air Force

Property Number: 18199630024

Status: Unutilized

Reasons: Within 2000 ft. of flammable or explosive material, Secured Area

Facility 1514

Selfridge AFB

Mt. Clemens Co: Macomb MI 48045-5295

Landholding Agency: Air Force

Property Number: 18199630025

Status: Unutilized

Reason: Secured Area

Facility 1575

Selfridge AFB

Mt. Clemens Co: Macomb MI 48045-5295

Landholding Agency: Air Force

Property Number: 18199630026

Status: Unutilized

Reasons: Within 2000 ft. of flammable or explosive material, Secured Area

Facility 1576

Selfridge AFB

Mt. Clemens Co: Macomb MI 48045-5295

Landholding Agency: Air Force

Property Number: 18199630027

Status: Unutilized

Reasons: Within 2000 ft. of flammable or explosive material, Secured Area

Facility 1578

Selfridge AFB

Mt. Clemens Co: Macomb MI 48045-5295

Landholding Agency: Air Force

Property Number: 18199630028

Status: Unutilized

Reasons: Within 2000 ft. of flammable or explosive material, Secured Area

Facility 1580

Selfridge AFB

Mt. Clemens Co: Macomb MI 48045-5295

Landholding Agency: Air Force

Property Number: 18199630029

Status: Unutilized

Reasons: Within 2000 ft. of flammable or explosive material, Secured Area

Facility 1582

Selfridge AFB

Mt. Clemens Co: Macomb MI 48045-5295

Landholding Agency: Air Force

Property Number: 18199630030

Status: Unutilized

Reasons: Within 2000 ft. of flammable or explosive material, Secured Area

Facility 1583

Selfridge AFB

Mt. Clemens Co: Macomb MI 48045-5295

Landholding Agency: Air Force

Property Number: 18199630031

Status: Unutilized

Reasons: Within 2000 ft. of flammable or explosive material, Secured Area

Facility 1584

Selfridge AFB

Mt. Clemens Co: Macomb MI 48045-5295

Landholding Agency: Air Force

Property Number: 18199630032

Status: Unutilized

Reasons: Within 2000 ft. of flammable or explosive material, Secured Area

Facility 1585

Selfridge AFB

Mt. Clemens Co: Macomb MI 48045-5295

Landholding Agency: Air Force

Property Number: 18199630033

Status: Unutilized

Reason: Secured Area

Facilities 246, 248, 252-254

Selfridge Air National Guard

Mt. Clemens Co: Macomb MI 48045-5295

Landholding Agency: Air Force

Property Number: 18199710039

Status: Unutilized

Reasons: Within 2000 ft. of flammable or explosive material, Secured Area

7 Facilities

Selfridge Air National Guard

#240, 242, 244, 245, 247, 250, 251

Mt. Clemens Co: Macomb MI 48045-5295

Landholding Agency: Air Force

Property Number: 18199710040

Status: Unutilized

Reasons: Within 2000 ft. of flammable or explosive material, Secured Area

Facilities 237, 238

Selfridge Air National Guard

Mt. Clemens Co: Macomb MI 48045-5295

Landholding Agency: Air Force

Property Number: 18199710041

Status: Unutilized

Reasons: Within 2000 ft. of flammable or explosive material, Secured Area

5 Facilities

Selfridge Air National Guard

#228, 230, 232, 234, 236

Mt. Clemens Co: Macomb MI 48045-5295

Landholding Agency: Air Force

Property Number: 18199710042

Status: Unutilized

Reasons: Within 2000 ft. of flammable or explosive material, Secured Area

Facility 114

Selfridge Air National Guard

Mt. Clemens Co: Macomb MI 48045-5295

Landholding Agency: Air Force

Property Number: 18199710043

Status: Unutilized

Reasons: Within 2000 ft. of flammable or explosive material, Secured Area

Bldg. 114

Alpena CRTC

Alpena Co: MI 49707-

Landholding Agency: Air Force

Property Number: 18199930009

Status: Unutilized

Reason: Secured Area

Missouri

Rec Office

Harry S. Truman Dam & Reservoir

Osceola Co: St. Clair MO 64776-

Landholding Agency: COE

Property Number: 31200110001

Status: Unutilized

Reason: Extensive deterioration

Privy/Nemo Park

Pomme de Terre Lake

Hermitage Co: MO 65668-

Landholding Agency: COE

Property Number: 31200120001

Status: Excess

Reason: Extensive deterioration

Privy No. 1/Bolivar Park

Pomme de Terre Lake

Hermitage Co: MO 65668-

Landholding Agency: COE

Property Number: 31200120002

Status: Excess

Reason: Extensive deterioration

Privy No. 2/Bolivar Park

Pomme de Terre Lake

Hermitage Co: MO 65668-

Landholding Agency: COE

Property Number: 31200120003

Status: Excess

Reason: Extensive deterioration

Montana

Bldg. 23

Great Falls ANG Station

Great Falls Co: Cascade MT 59404-

Landholding Agency: Air Force

Property Number: 18199720030

Status: Excess

Reasons: Within 2000 ft. of flammable or explosive material, Secured Area

Bldg. 24

Great Falls ANG Station

Great Falls Co: Cascade MT 59404-

Landholding Agency: Air Force

Property Number: 18199720031

Status: Excess

Reasons: Within 2000 ft. of flammable or explosive material, Secured Area

Bldg. 35

Great Falls ANG Station

Great Falls Co: Cascade MT 59404-

Landholding Agency: Air Force

Property Number: 18199720033

Status: Excess

Reasons: Within 2000 ft. of flammable or explosive material, Secured Area

Bldg. 22

Great Falls IAP

Great Falls Co: Cascade MT 59404-5570

Landholding Agency: Air Force

Property Number: 18199820019

Status: Underutilized

Reasons: Within 2000 ft. of flammable or explosive material, Secured Area

Bldg. 1881

Malmstrom AFB

Malmstrom AFB Co: Cascade MT 59402-

Landholding Agency: Air Force

Property Number: 18200130012

Status: Unutilized

Reason: Secured Area

Bldg. 1085

Malmstrom AFB

Malmstrom AFB Co: Cascade MT 59402-

Landholding Agency: Air Force

Property Number: 18200210004

Status: Unutilized

Reasons: Within 2000 ft. of flammable or explosive material, Secured Area

Nebraska

Offutt Communications Annex-#3

Offutt Air Force Base

Scribner Co: Dodge NE 68031-

Landholding Agency: Air Force

Property Number: 18199210006

Status: Unutilized

Reason: former sewage lagoon

Bldg. 637

Lincoln Municipal Airport

2301 West Adams

Lincoln Co: Lancaster NE 68524-

Landholding Agency: Air Force

Property Number: 18199230021

Status: Unutilized

Reason: Extensive deterioration

Bldg. 639

Lincoln Municipal Airport

2301 West Adams

Lincoln Co: Lancaster NE 68524-

Landholding Agency: Air Force

Property Number: 18199230022

Status: Unutilized

Reason: Extensive deterioration

Bldg. 31

Offutt Air Force Base

Sac Boulevard

Offutt Co: Sarpy NE 68113-

Landholding Agency: Air Force

Property Number: 18199240007

Status: Unutilized

Reason: Secured Area

Bldg. 311

Offutt Air Force Base

Nelson Drive

Offutt Co: Sarpy NE 68113-

Landholding Agency: Air Force

Property Number: 18199240008

Status: Unutilized

Reason: Secured Area

Bldg. 401

Offutt Air Force Base

Custer Drive

Offutt Co: Sarpy NE 68113-

Landholding Agency: Air Force

Property Number: 18199240009

Status: Unutilized

Reason: Secured Area

Bldg. 416

Offutt Air Force Base

Sherman Turnpike

Offutt Co: Sarpy NE 68113-

Landholding Agency: Air Force

Property Number: 18199240010

Status: Unutilized

Reason: Secured Area

Bldg. 417

Offutt Air Force Base

Sherman Turnpike

Offutt Co: Sarpy NE 68113-

Landholding Agency: Air Force

Property Number: 18199240011

Status: Unutilized

Reason: Secured Area

Bldg. 545

Offutt Air Force Base

Offutt Co: Sarpy NE 68113-

Landholding Agency: Air Force

Property Number: 18199240012

Status: Unutilized

Reason: Secured Area

Bldg. 21

Hastings Radar Bomb Scoring Site

Hastings Co: Adams NE 68901-

Landholding Agency: Air Force

Property Number: 18199320058

Status: Excess

Reason: Generator

Bldg. 4, Hastings Family Hsg.

Hastings Radar Bomb Scoring Site

Hastings Co: Adams NE 68901-

Landholding Agency: Air Force

Property Number: 18199320059

Status: Excess

Reason: Contamination

Bldg. 500

Hastings Family Housing

Hastings Radar Bomb Scoring Site

Hastings Co: Adams NE 68901-

Landholding Agency: Air Force

Property Number: 18199320060

Status: Excess

Reason: Contamination

Bldg. 502

Hastings Family Housing

Hastings Radar Bomb Scoring Site

Hastings Co: Adams NE 68901-

Landholding Agency: Air Force

Property Number: 18199320061

Status: Excess

Reason: Contamination

Bldg. 504

Hastings Family Housing

Hastings Radar Bomb Scoring Site

Hastings Co: Adams NE 68901-

Landholding Agency: Air Force

Property Number: 18199320062

Status: Excess

Reason: Contamination

Bldg. 506

Hastings Family Housing

Hastings Radar Bomb Scoring Site

Hastings Co: Adams NE 68901-

Landholding Agency: Air Force

Property Number: 18199320063

Status: Excess

Reason: Contamination

Bldg. 507

Hastings Family Housing

Hastings Radar Bomb Scoring Site

Hastings Co: Adams NE 68901-

Landholding Agency: Air Force

Property Number: 18199320064

Status: Excess

Reason: Contamination

Bldg. 509

Hastings Family Housing

Hastings Radar Bomb Scoring Site

Hastings Co: Adams NE 68901-

Landholding Agency: Air Force

Property Number: 18199320065

Status: Excess

Reason: Contamination

Bldg. 511

Hastings Family Housing

Hastings Radar Bomb Scoring Site

Hastings Co: Adams NE 68901-

Landholding Agency: Air Force

Property Number: 18199320066

Status: Excess

Reason: Contamination

Bldg. 512

Hastings Family Housing

Hastings Radar Bomb Scoring Site

Hastings Co: Adams NE 68901-

Landholding Agency: Air Force

Property Number: 18199320067

Status: Excess

Reason: Contamination

Bldg. 515

Hastings Family Housing

Hastings Radar Bomb Scoring Site

Hastings Co: Adams NE 68901-

Landholding Agency: Air Force

Property Number: 18199320068

Status: Excess

Reason: Contamination

Bldg. 517

Hastings Family Housing

Hastings Radar Bomb Scoring Site

Hastings Co: Adams NE 68901-

Landholding Agency: Air Force

Property Number: 18199320069

Status: Excess

Reason: Contamination

Bldg. 519

Hastings Family Housing

Hastings Radar Bomb Scoring Site

Hastings Co: Adams NE 68901-

Landholding Agency: Air Force

Property Number: 18199320070

Status: Excess

Reason: Contamination

Bldg. 521

Hastings Family Housing

Hastings Radar Bomb Scoring Site

Hastings Co: Adams NE 68901-

Landholding Agency: Air Force

Property Number: 18199320071

Status: Excess

Reason: Contamination

Bldg. 523

Hastings Family Housing

Hastings Radar Bomb Scoring Site

Hastings Co: Adams NE 68901-

Landholding Agency: Air Force

Property Number: 18199320072

Status: Excess

Reason: Contamination

Bldg. 525

Hastings Family Housing

Hastings Radar Bomb Scoring Site

Hastings Co: Adams NE 68901-

Landholding Agency: Air Force

Property Number: 18199320073

Status: Excess

Reason: Contamination

Bldg. 526

Hastings Family Housing

Hastings Radar Bomb Scoring Site

Hastings Co: Adams NE 68901-

Landholding Agency: Air Force

Property Number: 18199320074

Status: Excess

Reason: Contamination

Bldg. 529

Hastings Family Housing

Hastings Radar Bomb Scoring Site

Hastings Co: Adams NE 68901-

Landholding Agency: Air Force

Property Number: 18199320075

Status: Excess

Reason: Contamination

Bldg. 531

Hastings Family Housing

Hastings Radar Bomb Scoring Site

Hastings Co: Adams NE 68901-

Landholding Agency: Air Force

Property Number: 18199320076

Status: Excess

Reason: Contamination

Bldg. 533

Hastings Family Housing

Hastings Radar Bomb Scoring Site

Hastings Co: Adams NE 68901-

Landholding Agency: Air Force

Property Number: 18199320077

Status: Excess

Reason: Contamination

Bldg. 534

Hastings Family Housing

Hastings Radar Bomb Scoring Site

Hastings Co: Adams NE 68901-

Landholding Agency: Air Force

Property Number: 18199320078

Status: Excess

Reason: Contamination

Bldg. 536

Hastings Family Housing

Hastings Radar Bomb Scoring Site

Hastings Co: Adams NE 68901-

Landholding Agency: Air Force

Property Number: 18199320079

Status: Excess

Reason: Contamination

Bldg. 538

Hastings Family Housing

Hastings Radar Bomb Scoring Site

Hastings Co: Adams NE 68901-

Landholding Agency: Air Force

Property Number: 18199320080

Status: Excess

Reason: Contamination

Bldg. 541

Hastings Family Housing

Hastings Radar Bomb Scoring Site

Hastings Co: Adams NE 68901-

Landholding Agency: Air Force

Property Number: 18199320081

Status: Excess

Reason: Contamination

Bldg. 542

Hastings Family Housing

Hastings Radar Bomb Scoring Site

Hastings Co: Adams NE 68901-

Landholding Agency: Air Force

Property Number: 18199320082

Status: Excess

Reason: Contamination

Bldg. 544

Hastings Family Housing

Hastings Radar Bomb Scoring Site

Hastings Co: Adams NE 68901-

Landholding Agency: Air Force

Property Number: 18199320083

Status: Excess

Reason: Contamination

Bldg. 546

Hastings Family Housing

Hastings Radar Bomb Scoring Site

Hastings Co: Adams NE 68901-

Landholding Agency: Air Force

Property Number: 18199320084

Status: Excess

Reason: Contamination

Bldg. 549

Hastings Family Housing

Hastings Radar Bomb Scoring Site

Hastings Co: Adams NE 68901-

Landholding Agency: Air Force

Property Number: 18199320085

Status: Excess

Reason: Contamination

Bldg. 550

Hastings Family Housing

Hastings Radar Bomb Scoring Site

Hastings Co: Adams NE 68901-

Landholding Agency: Air Force

Property Number: 18199320086

Status: Excess

Reason: Contamination

Bldg. 552

Hastings Family Housing

Hastings Radar Bomb Scoring Site

Hastings Co: Adams NE 68901-

Landholding Agency: Air Force

Property Number: 18199320087

Status: Excess

Reason: Contamination

Bldg. 553

Hastings Family Housing

Hastings Radar Bomb Scoring Site

Hastings Co: Adams NE 68901-

Landholding Agency: Air Force

Property Number: 18199320088

Status: Excess

Reason: Contamination

Bldg. 555

Hastings Family Housing

Hastings Radar Bomb Scoring Site

Hastings Co: Adams NE 68901-

Landholding Agency: Air Force

Property Number: 18199320089

Status: Excess

Reason: Contamination

Bldg. 557

Hastings Family Housing

Hastings Radar Bomb Scoring Site

Hastings Co: Adams NE 68901-

Landholding Agency: Air Force

Property Number: 18199320090

Status: Excess

Reason: Contamination

Bldg. 558

Hastings Family Housing

Hastings Radar Bomb Scoring Site

Hastings Co: Adams NE 68901-

Landholding Agency: Air Force

Property Number: 18199320091

Status: Excess

Reason: Contamination

Bldg. 560

Hastings Family Housing

Hastings Radar Bomb Scoring Site

Hastings Co: Adams NE 68901-

Landholding Agency: Air Force

Property Number: 18199320092

Status: Excess

Reason: Contamination

27 Detached Garages

Hastings Family Housing

Hastings Radar Bomb Scoring Site

Hastings Co: Adams NE 68901-

Landholding Agency: Air Force

Property Number: 18199320093

Status: Excess

Reason: Contamination

Bldg. 17

Hastings Radar Bomb Scoring Site

Hastings Co: Adams NE 68901-

Landholding Agency: Air Force

Property Number: 18199320094

Status: Excess

Reason: Contamination

Bldg. 16

Hastings Radar Bomb Scoring Site

Hastings Co: Adams NE 68901-

Landholding Agency: Air Force

Property Number: 18199320095

Status: Excess

Reason: Contamination

Bldg. 18

Hastings Radar Bomb Scoring Site

Hastings Co: Adams NE 68901-

Landholding Agency: Air Force

Property Number: 18199320096

Status: Excess

Reason: Contamination

Bldg. 6

Hastings Family Housing

Hastings Radar Bomb Scoring Site

Hastings Co: Adams NE 68901-

Landholding Agency: Air Force

Property Number: 18199320097

Status: Excess

Reason: Contamination

Bldg. 547

Hastings Family Housing

Hastings Radar Bomb Scoring Site

Hastings Co: Adams NE 68901-

Landholding Agency: Air Force

Property Number: 18199320098

Status: Excess

Reason: Contamination

Bldg. 604

Hastings Family Housing

Hastings Radar Bomb Scoring Site

Hastings Co: Adams NE 68901-

Landholding Agency: Air Force

Property Number: 18199320099

Status: Excess

Reason: Contamination

Bldg. 686

Offutt Air Force Base

Offutt Co: Sarpy NE 68113-

Landholding Agency: Air Force

Property Number: 18199510021

Status: Unutilized

Reason: Secured Area

Bldg. 439

Offutt Air Force Base

Offutt Co: Sarpy NE 68113-

Landholding Agency: Air Force

Property Number: 18199510022

Status: Unutilized

Reason: Secured Area

Bldg. 606

NE Air National Guard

Lincoln Co: Lancaster NE 68524-1888

Landholding Agency: Air Force

Property Number: 18199720028

Status: Underutilized

Reasons: Floodway, Secured Area

Bldg. 675

NE Air National Guard

Lincoln Co: Lancaster NE 68524-1888

Landholding Agency: Air Force

Property Number: 18199720029

Status: Unutilized

Reasons: Floodway, Secured Area

Vault Toilets

Harlan County Project

Republican Co: NE 68971-

Landholding Agency: COE

Property Number: 31200210006

Status: Unutilized

Reason: Extensive deterioration

Patterson Treatment Plant

Harlan County Project

Republican Co: NE 68971-

Landholding Agency: COE

Property Number: 31200210007

Status: Unutilized

Reason: Extensive deterioration

New Hampshire

Bldg. 117

New Boston Air Force Station

Amherst Co: Hillsborough NH 03031-1514

Landholding Agency: Air Force

Property Number: 18199920008

Status: Unutilized

Reasons: Within 2000 ft. of flammable or explosive material, Secured Area

Bldg. 129

New Boston Air Force Station

Amherst Co: Hillsborough NH 03031-1514

Landholding Agency: Air Force

Property Number: 18199920009

Status: Unutilized

Reasons: Within 2000 ft. of flammable or explosive material, Secured Area

Facility 5210

Newington POL DFS

Newington Co: Rockingham NH 03801-

Landholding Agency: Air Force

Property Number: 18199920010

Status: Excess

Reason: Within 2000 ft. of flammable or explosive material

Bldg. 155

Pease Air National Guard

Newington Co: Rockingham NH 03803-

Landholding Agency: Air Force

Property Number: 18199930011

Status: Unutilized

Reason: Within 2000 ft. of flammable or explosive material

Bldg. 124

New Boston Air Force Station

New Boston Co: Hilsboro NH 03070-5125

Landholding Agency: Air Force

Property Number: 18200030013

Status: Unutilized

Reason: Secured Area

Bldg. 125

New Boston Air Force Station

New Boston Co: Hilsboro NH 03070-5125

Landholding Agency: Air Force

Property Number: 18200030014

Status: Unutilized

Reason: Secured Area

New Mexico

Bldg. 831

833 CSG/DEER

Holloman AFB Co: Otero NM 88330-

Landholding Agency: Air Force

Property Number: 18199130333

Status: Unutilized

Reason: Secured Area

Bldg. 21

Holloman Air Force Base

Co: Otero NM 88330-

Landholding Agency: Air Force

Property Number: 18199240032

Status: Unutilized

Reason: Secured Area

Bldg. 98

Holloman Air Force Base

Co: Otero NM 88330-

Landholding Agency: Air Force

Property Number: 18199240034

Status: Unutilized

Reason: Secured Area

Bldg. 324

Holloman Air Force Base

Co: Otero NM 88330-

Landholding Agency: Air Force

Property Number: 18199240035

Status: Unutilized

Reason: Secured Area

Bldg. 598

Holloman Air Force Base

Co: Otero NM 88330-

Landholding Agency: Air Force

Property Number: 18199240036

Status: Unutilized

Reason: Secured Area

Bldg. 801

Holloman Air Force Base

Co: Otero NM 88330-

Landholding Agency: Air Force

Property Number: 18199240037

Status: Unutilized

Reason: Secured Area

Bldg. 802

Holloman Air Force Base

Co: Otero NM 88330-

Landholding Agency: Air Force

Property Number: 18199240038

Status: Unutilized

Reason: Secured Area

Bldg. 1095

Holloman Air Force Base

Co: Otero NM 88330-

Landholding Agency: Air Force

Property Number: 18199240039

Status: Unutilized

Reason: Secured Area

Bldg. 1096

Holloman Air Force Base

Co: Otero NM 88330-

Landholding Agency: Air Force

Property Number: 18199240040

Status: Unutilized

Reason: Secured Area

Facility 321

Holloman Air Force Base

Co: Otero NM 88330-

Landholding Agency: Air Force

Property Number: 18199240041

Status: Unutilized

Reason: Secured Area

Facility 75115

Holloman Air Force Base

Co: Otero NM 88330-

Landholding Agency: Air Force

Property Number: 18199240042

Status: Unutilized

Reason: Secured Area

Bldg. 874

Holloman Air Force Base

Co: Otero NM 88330-

Landholding Agency: Air Force

Property Number: 18199320041

Status: Unutilized

Reasons: Extensive Deterioration, Secured Area

Bldg. 1258

Holloman Air Force Base

Co: Otero NM 88330-

Landholding Agency: Air Force

Property Number: 18199320042

Status: Unutilized

Reasons: Extensive Deterioration, Secured Area

Bldg. 134

Holloman Air Force Base

Co: Otero NM 88330-

Landholding Agency: Air Force

Property Number: 18199430014

Status: Unutilized

Reason: Secured Area

Bldg. 640

Holloman Air Force Base

Co: Otero NM 88330-

Landholding Agency: Air Force

Property Number: 18199430015

Status: Unutilized

Reason: Secured Area

Bldg. 703

Holloman Air Force Base

Co: Otero NM 88330-

Landholding Agency: Air Force

Property Number: 18199430016

Status: Unutilized

Reasons: Within airport runway clear zone, Secured Area

Bldg. 813

Holloman Air Force Base

Co: Otero NM 88330-

Landholding Agency: Air Force

Property Number: 18199430017

Status: Unutilized

Reason: Secured Area

Bldg. 821

Holloman Air Force Base

Co: Otero NM 88330-

Landholding Agency: Air Force

Property Number: 18199430018

Status: Unutilized

Reason: Secured Area

Bldg. 829

Holloman Air Force Base

Co: Otero NM 88330-

Landholding Agency: Air Force

Property Number: 18199430019

Status: Unutilized

Reasons: Within airport runway clear zone, Secured Area

Bldg. 867

Holloman Air Force Base

Co: Otero NM 88330-

Landholding Agency: Air Force

Property Number: 18199430020

Status: Unutilized

Reason: Secured Area

Bldg. 884

Holloman Air Force Base

Co: Otero NM 88330-

Landholding Agency: Air Force

Property Number: 18199430021

Status: Unutilized

Reasons: Within airport runway clear zone, Secured Area

Bldg. 886

Holloman Air Force Base

Co: Otero NM 88330-

Landholding Agency: Air Force

Property Number: 18199430022

Status: Unutilized

Reasons: Within airport runway clear zone, Secured Area

Bldg. 908

Holloman Air Force Base

Co: Otero NM 88330-

Landholding Agency: Air Force

Property Number: 18199430023

Status: Unutilized

Reason: Secured Area

Bldg. 599

Holloman Air Force Base

Co: Otero NM 88330-

Landholding Agency: Air Force

Property Number: 18199510001

Status: Unutilized

Reason: Secured Area

Bldg. 600

Holloman Air Force Base

Co: Otero NM 88330-

Landholding Agency: Air Force

Property Number: 18199510002

Status: Unutilized

Reason: Secured Area

Bldg. 599

Holloman AFB

Co: Otero NM 88330-

Landholding Agency: Air Force

Property Number: 18199610007

Status: Unutilized

Reason: Secured Area

Bldg. 600

Holloman AFB

Co: Otero NM 88330-

Landholding Agency: Air Force

Property Number: 18199610008

Status: Unutilized

Reason: Secured Area

Bldg. 995

Holloman AFB

Co: Otero NM 88330-

Landholding Agency: Air Force

Property Number: 18199610009

Status: Unutilized

Reason: Secured Area

Bldg. 1257

Holloman AFB

Co: Otero NM 88330-

Landholding Agency: Air Force

Property Number: 18199740012

Status: Unutilized

Reason: Secured Area

Bldg. 332

Holloman AFB

Co: Otero NM 88330-

Landholding Agency: Air Force

Property Number: 18199740013

Status: Unutilized

Reasons: Within 2000 ft. of flammable or explosive material, Secured Area

Bldg. 205

Holloman AFB

Co: Otero NM 88330-

Landholding Agency: Air Force

Property Number: 18199740014

Status: Unutilized

Reasons: Within 2000 ft. of flammable or explosive material, Secured Area

Bldg. 1089

Holloman AFB

Co: Otero NM 88330-

Landholding Agency: Air Force

Property Number: 18199830009

Status: Unutilized

Reason: Secured Area

Bldg. 2149

Holloman AFB

Co: Otero NM 88330-

Landholding Agency: Air Force

Property Number: 18199830010

Status: Unutilized

Reasons: Within 2000 ft. of flammable or explosive material, Secured Area

Bldg. 2151

Holloman AFB

Co: Otero NM 88330-

Landholding Agency: Air Force

Property Number: 18199830011

Status: Unutilized

Reasons: Within 2000 ft. of flammable or explosive material, Secured Area

Bldg. 2176

Holloman AFB

Co: Otero NM 88330-

Landholding Agency: Air Force

Property Number: 18199830012

Status: Unutilized

Reasons: Within 2000 ft. of flammable or explosive material, Secured Area

Bldg. 2178

Holloman AFB

Co: Otero NM 88330-

Landholding Agency: Air Force

Property Number: 18199830013

Status: Unutilized

Reasons: Within 2000 ft. of flammable or explosive material, Secured Area

Bldg. 197

Holloman AFB

Holloman AFB Co: Otero NM 88330-

Landholding Agency: Air Force

Property Number: 18200040003

Status: Unutilized

Reasons: Within 2000 ft. of flammable or explosive material, Secured Area

Bldg. 1021

Holloman AFB

Otero Co: NM 88330-

Landholding Agency: Air Force

Property Number: 18200110001

Status: Unutilized

Reason: Secured Area

Bldg. 1025

Holloman AFB

Otero Co: NM 88330-

Landholding Agency: Air Force

Property Number: 18200110002

Status: Unutilized

Reason: Secured Area

Bldg. 571

Holloman AFB

Holloman AFB Co: Otero NM 88330-

Landholding Agency: Air Force

Property Number: 18200130013

Status: Unutilized

Reasons: Within 2000 ft. of flammable or explosive material, Secured Area

Bldg. 1029

Holloman AFB

Holloman AFB Co: Otero NM 88330-

Landholding Agency: Air Force

Property Number: 18200130014

Status: Unutilized

Reasons: Within 2000 ft. of flammable or explosive material, Secured Area

Bldg. 1191

Holloman AFB

Holloman AFB Co: Otero NM 88330-

Landholding Agency: Air Force

Property Number: 18200130015

Status: Unutilized

Reason: Secured Area

New York

Bldg. 626 (Pin: RVKQ)

Niagara Falls International Airport

914th Tactical Airlift Group

Niagara Falls Co: Niagara NY 14303-5000

Landholding Agency: Air Force

Property Number: 18199010075

Status: Unutilized

Reasons: Within 2000 ft. of flammable or explosive material, Secured Area

Bldg. 272

Griffiss Air Force Base

Rome Co: Oneida NY 13441-

Landholding Agency: Air Force

Property Number: 18199140022

Status: Excess

Reason: Secured Area

Bldg. 888

Griffiss Air Force Base

Rome Co: Oneida NY 13441-

Landholding Agency: Air Force

Property Number: 18199140023

Status: Excess

Reason: Secured Area

Facility 814, Griffiss AFB

NE of Weapons Storage Area

Rome Co: Oneida NY 13441-

Landholding Agency: Air Force

Property Number: 18199230001

Status: Excess

Reasons: Within airport runway clear zone, Secured Area

Facility 808, Griffiss AFB

Perimeter Road

Rome Co: Oneida NY 13441-

Landholding Agency: Air Force

Property Number: 18199230002

Status: Excess

Reasons: Within airport runway clear zone, Secured Area

Facility 807, Griffiss AFB

Perimeter Road

Rome Co: Oneida NY 13441-

Landholding Agency: Air Force

Property Number: 18199230003

Status: Excess

Reasons: Within airport runway clear zone, Secured Area

Facility 126

Griffiss Air Force Base

Hanger Road

Rome Co: Oneida NY 13441-4520

Landholding Agency: Air Force

Property Number: 18199240020

Status: Unutilized

Reason: Secured Area

Facility 127

Griffiss Air Force Base

Hanger Road

Rome Co: Oneida NY 13441-4520

Landholding Agency: Air Force

Property Number: 18199240021

Status: Unutilized

Reason: Secured Area

Facility 135

Griffiss Air Force Base

Hanger Road

Rome Co: Oneida NY 13441-4520

Landholding Agency: Air Force

Property Number: 18199240022

Status: Unutilized

Reason: Secured Area

Facility 137

Griffiss Air Force Base

Otis Street

Rome Co: Oneida NY 13441-4520

Landholding Agency: Air Force

Property Number: 18199240023

Status: Unutilized

Reason: Secured Area

Facility 138

Griffiss Air Force Base

Otis Street

Rome Co: Oneida NY 13441-4520

Landholding Agency: Air Force

Property Number: 18199240024

Status: Unutilized

Reason: Secured Area

Facility 173

Griffiss Air Force Base

Selfridge Street

Rome Co: Oneida NY 13441-4520

Landholding Agency: Air Force

Property Number: 18199240025

Status: Unutilized

Reason: Secured Area

Facility 261

Griffiss Air Force Base

McDill Street

Rome Co: Oneida NY 13441-4520

Landholding Agency: Air Force

Property Number: 18199240026

Status: Unutilized

Reason: Secured Area

Facility 308

Griffiss Air Force Base

205 Chanute Street

Rome Co: Oneida NY 13441-4520

Landholding Agency: Air Force

Property Number: 18199240027

Status: Unutilized

Reason: Secured Area

Facility 1200

Griffiss Air Force Base

Donaldson Road

Rome Co: Oneida NY 13441-4520

Landholding Agency: Air Force

Property Number: 18199240028

Status: Unutilized

Reason: Secured Area

Facility 841

Griffiss Air Force Base

Rome Co: Oneida NY 13441-4520

Landholding Agency: Air Force

Property Number: 18199330097

Status: Unutilized

Reason: Secured Area

Bldg. 740

Niagara Falls Air Force Reserve

Niagara Falls Co: Niagara NY 14304-5001

Landholding Agency: Air Force

Property Number: 18199720026

Status: Unutilized

Reasons: Within airport runway clear zone, Floodway, Secured Area

Bldg. 629

Hancock Field

Syracuse Co: Onondaga NY 13211-

Landholding Agency: Air Force

Property Number: 18199730006

Status: Unutilized

Reasons: Within 2000 ft. of flammable or explosive material, Secured Area

Bldg. 514

Niagara Falls ARS

Niagara Falls Co: Niagara NY 14304-5001

Landholding Agency: Air Force

Property Number: 18199810024

Status: Unutilized

Reasons: Floodway, Secured Area, Extensive deterioration

Bldg. 614

Niagara Falls AFR

Niagara Falls Co: Niagara NY 14305-5001

Landholding Agency: Air Force

Property Number: 18199830014

Status: Unutilized

Reasons: Within 2000 ft. of flammable or explosive material, Secured Area, Extensive deterioration

Bldg. 722

Niagara Falls AFR

Niagara Falls Co: Niagara NY 14305-5001

Landholding Agency: Air Force

Property Number: 18199830015

Status: Unutilized

Reasons: Within 2000 ft. of flammable or explosive material, Secured Area, Extensive deterioration

Bldg. 750

Niagara Falls AFR

Niagara Falls Co: Niagara NY 14305-5001

Landholding Agency: Air Force

Property Number: 18199830016

Status: Unutilized

Reasons: Within 2000 ft. of flammable or explosive material, Secured Area, Extensive deterioration

Bldg. 751

Niagara Falls AFR

Niagara Falls Co: Niagara NY 14305-5001

Landholding Agency: Air Force

Property Number: 18199830017

Status: Unutilized

Reasons: Within 2000 ft. of flammable or explosive material, Secured Area, Extensive deterioration

Facility 1200

Verona Test Annex

Town of Verona Co: Oneida NY 13478-

Landholding Agency: Air Force

Property Number: 18199920011

Status: Unutilized

Reason: No public access

Facility 1202

Verona Test Annex

Town of Verona Co: Oneida NY 13478-

Landholding Agency: Air Force

Property Number: 18199920012

Status: Unutilized

Reason: No public access

Facility 1203

Verona Test Annex

Town of Verona Co: Oneida NY 13478-

Landholding Agency: Air Force

Property Number: 18199920013

Status: Unutilized

Reason: No public access

Facility 1204

Verona Test Annex

Town of Verona Co: Oneida NY 13478-

Landholding Agency: Air Force

Property Number: 18199920014

Status: Unutilized

Reason: No public access

Facility 1206

Verona Test Annex

Town of Verona Co: Oneida NY 13478-

Landholding Agency: Air Force

Property Number: 18199920016

Status: Unutilized

Reason: No public access

Facility 1207

Verona Test Annex

Town of Verona Co: Oneida NY 13478-

Landholding Agency: Air Force

Property Number: 18199920017

Status: Unutilized

Reason: No public access

Facility 1208

Verona Test Annex

Town of Verona Co: Oneida NY 13478-

Landholding Agency: Air Force

Property Number: 18199920018

Status: Unutilized

Reason: No public access

Facility 1209

Verona Test Annex

Town of Verona Co: Oneida NY 13478-

Landholding Agency: Air Force

Property Number: 18199920019

Status: Unutilized

Reason: No public access

Facility 1210

Verona Test Annex

Town of Verona Co: Oneida NY 13478-

Landholding Agency: Air Force

Property Number: 18199920020

Status: Unutilized

Reason: No public access

Facility 1259

Verona Test Annex

Town of Verona Co: Oneida NY 13478-

Landholding Agency: Air Force

Property Number: 18199920021

Status: Unutilized

Reason: No public access

Facility 1260

Verona Test Annex

Town of Verona Co: Oneida NY 13478-

Landholding Agency: Air Force

Property Number: 18199920022

Status: Unutilized

Reason: No public access

Warehouse

Whitney Lake Project

Whitney Point Co: Broome NY 13862-0706

Landholding Agency: COE

Property Number: 31199630007

Status: Unutilized

Reason: Extensive deterioration

North Carolina

Bldg. 4230—Youth Center

Cannon Ave.

Goldsboro Co: Wayne NC 27531-5005

Landholding Agency: Air Force

Property Number: 18199120233

Status: Underutilized

Reason: Secured Area

Bldg. 607, Pope Air Force Base

Fayetteville Co: Cumberland NC 28308-2890

Landholding Agency: Air Force

Property Number: 18199330041

Status: Unutilized

Reasons: Secured Area, Extensive deterioration

Bldg. 910, Pope Air Force Base

Fayetteville Co: Cumberland NC 28308-2003

Landholding Agency: Air Force

Property Number: 18199420022

Status: Unutilized

Reasons: Secured Area, Extensive deterioration

Bldg. 912, Pope Air Force Base

Fayetteville Co: Cumberland NC 28308-2003

Landholding Agency: Air Force

Property Number: 18199420023

Status: Unutilized

Reasons: Secured Area, Extensive deterioration

Bldg. 914, Pope Air Force Base

Fayetteville Co: Cumberland NC 28308-2003

Landholding Agency: Air Force

Property Number: 18199420024

Status: Unutilized

Reasons: Secured Area, Extensive deterioration

Bldg. 633, Pope Air Force Base

Fayetteville Co: Cumberland NC 28308-

Landholding Agency: Air Force

Property Number: 18199540019

Status: Unutilized

Reasons: Secured Area, Extensive deterioration

North Dakota

Bldg. 422

Minot Air Force Base

Minot Co: Ward ND 58705-

Landholding Agency: Air Force

Property Number: 18199010724

Status: Underutilized

Reason: Secured Area

Bldg. 50

Fortuna Air Force Station

Extreme northwestern corner of North Dakota

Fortuna Co: Divide ND 58844-

Landholding Agency: Air Force

Property Number: 18199310107

Status: Excess

Reason: Garbage incinerator

Bldg. 119

Minot Air Force Base

Minot Co: Ward ND 58701-

Landholding Agency: Air Force

Property Number: 18199320034

Status: Unutilized

Reason: Secured Area

Bldg. 526

Minot Air Force Base

Minot Co: Ward ND 58701-

Landholding Agency: Air Force

Property Number: 18199320038

Status: Unutilized

Reason: Secured Area

B-B-548Shp

Grand Forks AFB

Emerado Co: Grand Forks ND 58205-

Landholding Agency: Air Force

Property Number: 18200110003

Status: Unutilized

Reasons: Within 2000 ft. of flammable or explosive material, Secured Area, Extensive deterioration

Bldg. 548

Grand Forks AFB

Grand Forks AFB Co: ND 58205-

Landholding Agency: Air Force

Property Number: 18200120009

Status: Excess

Reasons: Within 2000 ft. of flammable or explosive material, Secured Area, Extensive deterioration

Bldg. B-138

Grand Forks AFB

Emerado Co: Grand Forks ND 58205-

Landholding Agency: Air Force

Property Number: 18200210005

Status: Excess

Reasons: Within 2000 ft. of flammable or explosive material, Secured Area

Ohio

14 Bldgs.

Area B, Wright-Patterson AFB

Co: Montgomery OH 45433-

Location: 6036, 38, 42, 44, 45, 49, 54, 64, 65, 69, 75

Landholding Agency: Air Force

Property Number: 18199820030

Status: Unutilized

Reason: Within airport runway clear zone

Bldg. 6104, 08, 09

Area B, Wright-Patterson AFB

Co: Montgomery OH 45433-

Landholding Agency: Air Force

Property Number: 18199820044

Status: Unutilized

Reason: Within airport runway clear zone

Bldg. 522

Youngstown Air Reserve

Vienna Co: Trumbull OH 44473-0910

Landholding Agency: Air Force

Property Number: 18200010007

Status: Unutilized

Reasons: Within 2000 ft. of flammable or explosive material, Secured Area, Extensive deterioration

Bldgs. 1, 2, 3, 5, 8

Cincinnati Petroleum Distribution Station

Cincinnati Co: Hamilton OH -

Landholding Agency: Air Force

Property Number: 18200210006

Status: Excess

Reasons: Within 2000 ft. of flammable or explosive material, Floodway

Oklahoma

Bldg. 010

Tulsa IAP Base

Tulsa OK 74115-1699

Landholding Agency: Air Force

Property Number: 18199820031

Status: Unutilized

Reasons: Within 2000 ft. of flammable or explosive material, Secured Area

Bldg. 305

Tulsa IAP Base

Tulsa OK 74115-1699

Landholding Agency: Air Force

Property Number: 18199820032

Status: Unutilized

Reasons: Within 2000 ft. of flammable or explosive material, Secured Area

Oregon

Bldg.

366 E. Hurlburt

Hermiston Co: Umatilla OR 97838-

Landholding Agency: Interior

Property Number: 61200110007

Status: Unutilized

Reason: Extensive deterioration

Bldg. 0320-00

Klamath Irrigation District

Klamath Falls Co: Klamath OR 97603-

Landholding Agency: Interior

Property Number: 61200140002

Status: Unutilized

Reason: Extensive deterioration

Bldg. 30

Naval Weapons Systems Training

Boardman Co: Morrow OR

Landholding Agency: Navy

Property Number: 77200210070

Status: Unutilized

Reason: Secured Area

Bldg. 31

Naval Weapons Systems Training

Boardman Co: Morrow OR

Landholding Agency: Navy

Property Number: 77200210071

Status: Unutilized

Reason: Secured Area

Bldg. 32

Naval Weapons Systems Training

Boardman Co: Morrow OR

Landholding Agency: Navy

Property Number: 77200210072

Status: Unutilized

Reason: Secured Area

Bldg. 33

Naval Weapons Systems Training

Boardman Co: Morrow OR

Landholding Agency: Navy

Property Number: 77200210073

Status: Unutilized

Reason: Secured Area

Bldg. 35

Naval Weapons Systems Training

Boardman Co: Morrow OR

Landholding Agency: Navy

Property Number: 77200210074

Status: Unutilized

Reason: Secured Area

Bldg. 37

Naval Weapons Systems Training

Boardman Co: Morrow OR

Landholding Agency: Navy

Property Number: 77200210075

Status: Unutilized

Reason: Secured Area

South Dakota

Bldg. 7506

Ellsworth Air Force Base

Ellsworth AFB Co: Meade SD 57706-

Landholding Agency: Air Force

Property Number: 18199340037

Status: Unutilized

Reason: Secured Area

Bldg. 111

Ellsworth Air Force Base

Ellsworth AFB Co: Meade SD 57706-

Landholding Agency: Air Force

Property Number: 18199730007

Status: Unutilized

Reason: Secured Area

Bldg. 7504

Ellsworth AFB

Co: Meade SD 57706-

Landholding Agency: Air Force

Property Number: 18199820034

Status: Underutilized

Reasons: Within 2000 ft. of flammable or explosive material, Within airport runway clear zone, Secured Area

Bldg. 7239

Ellsworth AFB

Co: Meade SD 57706-

Landholding Agency: Air Force

Property Number: 18199820036

Status: Unutilized

Reasons: Within 2000 ft. of flammable or explosive material, Within airport runway clear zone, Secured Area

Bldg. 1102

Ellsworth AFB

Co: Meade SD 57706-

Landholding Agency: Air Force

Property Number: 18199820037

Status: Unutilized

Reason: Secured Area

Bldg. 88307

Ellsworth AFB

Co: Meade SD 57706-

Landholding Agency: Air Force

Property Number: 18199820038

Status: Unutilized

Reasons: Within 2000 ft. of flammable or explosive material, Secured Area

Bldg. 88320

Ellsworth AFB

Co: Meade SD 57706-

Landholding Agency: Air Force

Property Number: 18199820039

Status: Unutilized

Reasons: Within 2000 ft. of flammable or explosive material, Secured Area

Bldg. 8001

Ellsworth Air Force Base

Ellsworth AFB Co: Pennington SD 57706-

Landholding Agency: Air Force

Property Number: 18199920026

Status: Unutilized

Reason: Secured Area

Bldg. 805

Ellsworth AFB

Ellsworth AFB Co: Meade SD 57706-

Landholding Agency: Air Force

Property Number: 18200110004

Status: Unutilized

Reason: Secured Area

Bldg. 7140

Ellsworth AFB

Ellsworth AFB Co: Meade SD 57706-

Landholding Agency: Air Force

Property Number: 18200110005

Status: Unutilized

Reason: Secured Area

Bldg. 7426

Ellsworth AFB

Ellsworth AFB Co: Meade SD 57706-

Landholding Agency: Air Force

Property Number: 18200110006

Status: Unutilized

Reason: Secured Area

Bldg. 12880

Ellsworth AFB

Ellsworth AFB Co: Meade SD 57706-

Landholding Agency: Air Force

Property Number: 18200110007

Status: Unutilized

Reason: Secured Area

Bldg. 88512

Ellsworth AFB

Ellsworth AFB Co: Meade SD 57706-

Landholding Agency: Air Force

Property Number: 18200110008

Status: Unutilized

Reason: Secured Area

Sundance Nuclear Reactor Site

Ellsworth AFB

Warren Peak Co: Crook SD 57706-

Landholding Agency: Air Force

Property Number: 18200110009

Status: Unutilized

Reason: Secured Area

Mobile Home

Tract L-1295

Oahe Dam

Potter Co: SD 00000-

Landholding Agency: COE

Property Number: 31200030001

Status: Excess

Reason: Extensive deterioration

Tennessee

Bldg. 204

Cordell Hull Lake and Dam Project.

Defeated Creek Recreation Area

Carthage Co: Smith TN 37030-

Location: US Highway 85

Landholding Agency: COE

Property Number: 31199011499

Status: Unutilized

Reason: Floodway

Tract 2618 (Portion)

Cordell Hull Lake and Dam Project

Roaring River Recreation Area

Gainesboro Co: Jackson TN 38562-

Location: TN Highway 135

Landholding Agency: COE

Property Number: 31199011503

Status: Underutilized

Reason: Floodway

Water Treatment Plant

Dale Hollow Lake & Dam Project

Obey River Park, State Hwy 42

Livingston Co: Clay TN 38351-

Landholding Agency: COE

Property Number: 31199140011

Status: Excess

Reason: Water treatment plant

Water Treatment Plant

Dale Hollow Lake & Dam Project

Lillydale Recreation Area, State Hwy 53

Livingston Co: Clay TN 38351-

Landholding Agency: COE

Property Number: 31199140012

Status: Excess

Reason: Water treatment plant

Water Treatment Plant

Dale Hollow Lake & Dam Project

Willow Grove Recreational Area, Hwy No. 53

Livingston Co: Clay TN 38351-

Landholding Agency: COE

Property Number: 31199140013

Status: Excess

Reason: Water treatment plant

Utah

Bldg. 789

Hill Air Force Base

(See County) Co: Davis UT 84056-

Landholding Agency: Air Force

Property Number: 18199040859

Status: Unutilized

Reasons: Within airport runway clear zone, Secured Area

Vermont

Facility 100

Burlington IAP

Burlington Co: Chittenden VT 05403-5872

Landholding Agency: Air Force

Property Number: 18199730008

Status: Excess

Reason: Within 2000 ft. of flammable or explosive material

Facility 110

Burlington IAP

Burlington Co: Chittenden VT 05403-5872

Landholding Agency: Air Force

Property Number: 18200030016

Status: Excess

Reason: Within 2000 ft. of flammable or explosive material

Virginia

Bldg. 417

Camp Pendleton

Virginia Beach VA 23451-

Landholding Agency: Air Force

Property Number: 18199710003

Status: Unutilized

Reason: Extensive deterioration

Bldg. 418

Camp Pendleton

Virginia Beach VA 23451-

Landholding Agency: Air Force

Property Number: 18199710004

Status: Unutilized

Reason: Extensive deterioration

Washington

Bldg. 100, Geiger Heights

Grove and Hallet Streets

Fairchild AFB Co: Spokane WA 99204-

Landholding Agency: Air Force

Property Number: 18199210004

Status: Unutilized

Reason: Extensive deterioration

Bldg. 2000

Fairchild Air Force Base

Fairchild AFB Co: Spokane WA 99011-

Landholding Agency: Air Force

Property Number: 18199310058

Status: Unutilized

Reasons: Within 2000 ft. of flammable or explosive material, Secured Area

Facility 2450

Fairchild Air Force Base

Fairchild AFB Co: Spokane WA 99011-

Landholding Agency: Air Force

Property Number: 18199310065

Status: Unutilized

Reasons: Within 2000 ft. of flammable or explosive material, Secured Area

Bldg. 1, Waste Annex

West of Craig Road

Co: Spokane WA 99022-

Landholding Agency: Air Force

Property Number: 18199320043

Status: Unutilized

Reason: Secured Area

Bldgs. 109, 117

Fairchild AFB

Cheney Annex

Cheney Co: Spokane WA 99004-

Landholding Agency: Air Force

Property Number: 18200210007

Status: Unutilized

Reason: Within 2000 ft. of flammable or explosive material

Bldgs. 110, 116, 126

Fairchild AFB

Cheney Annex

Cheney Co: Spokane WA 99004-

Landholding Agency: Air Force

Property Number: 18200210008

Status: Unutilized

Reason: Within 2000 ft. of flammable or explosive material

Bldgs. 125, 203

Fairchild AFB

Cheney Annex

Cheney Co: Spokane WA 99004-

Landholding Agency: Air Force

Property Number: 18200210009

Status: Unutilized

Reason: Within 2000 ft. of flammable or explosive material

Bldg. 204

Fairchild AFB

Cheney Annex

Cheney Co: Spokane WA 99004-

Landholding Agency: Air Force

Property Number: 18200210010

Status: Unutilized

Reason: Within 2000 ft. of flammable or explosive material

Bldgs. 207, 213

Fairchild AFB

Cheney Annex

Cheney Co: Spokane WA 99004-

Landholding Agency: Air Force

Property Number: 18200210011

Status: Unutilized

Reason: Within 2000 ft. of flammable or explosive material

Bldgs. 208, 214

Fairchild AFB

Cheney Annex

Cheney Co: Spokane WA 99004-

Landholding Agency: Air Force

Property Number: 18200210012

Status: Unutilized

Reason: Within 2000 ft. of flammable or explosive material

Bldgs. 809, 817

Fairchild AFB

Cheney Annex

Cheney Co: Spokane WA 99004-

Landholding Agency: Air Force

Property Number: 18200210013

Status: Unutilized

Reason: Within 2000 ft. of flammable or explosive material

Bldgs. 810, 818

Fairchild AFB

Cheney Annex

Cheney Co: Spokane WA 99004-

Landholding Agency: Air Force

Property Number: 18200210014

Status: Unutilized

Reason: Within 2000 ft. of flammable or explosive material

Wyoming

Bldg. 31

F.E. Warren Air Force Base

Cheyenne Co: Laramie WY 82005-

Landholding Agency: Air Force

Property Number: 18199010198

Status: Unutilized

Reason: Secured Area

Bldg. 284

F.E. Warren Air Force Base

Cheyenne Co: Laramie WY 82005-

Landholding Agency: Air Force

Property Number: 18199010201

Status: Unutilized

Reason: Secured Area

Bldg. 385

F.E. Warren Air Force Base

Cheyenne Co: Laramie WY 82005-

Landholding Agency: Air Force

Property Number: 18199010202

Status: Unutilized

Reason: Secured Area

Bldg. 919

F.E. Warren AFB

Cheyenne Co: Laramie WY 82005-5000

Landholding Agency: Air Force

Property Number: 18199930015

Status: Unutilized

Reason: Secured Area

Bldg. 39

F.E. Warren AFB

Cheyenne Co: Laramie WY 82005-2788

Landholding Agency: Air Force

Property Number: 18200110010

Status: Unutilized

Reason: Secured Area

Bldg. 400

F.E. Warren AFB

Cheyenne Co: Laramie WY 82005-2788

Landholding Agency: Air Force

Property Number: 18200110011

Status: Unutilized

Reason: Secured Area

Bldg. 2110

F.E. Warren AFB

Cheyenne Co: Laramie WY 82005-5000

Landholding Agency: Air Force

Property Number: 18200120010

Status: Unutilized

Reasons: Secured Area, Extensive deterioration

Bldg. 607

F.E. Warren AFB

Cheyenne Co: Laramie WY 82005-5000

Landholding Agency: Air Force

Property Number: 18200130016

Status: Unutilized

Reasons: Secured Area, Extensive deterioration

Land (by State)

Alaska

Campion Air Force Station 21 CSG-DEER

Elmendorf AFB Co: Anchorage AK 99506-5000

Landholding Agency: Air Force

Property Number: 18199010430

Status: Unutilized

Reasons: Isolated area, Not accessible by road, Isolated and remote area; Arctic environ

Lake Louise Recreation

21 CSG-DEER

Elmendorf AFB Co: Anchorage AK 99506-5000

Landholding Agency: Air Force

Property Number: 18199010431

Status: Unutilized

Reasons: Isolated area, Not accessible by road, Isolated and remote area; Arctic coast

Nikolski Radio Relay Site

21 CSG/DEER

Elmendorf AFB Co: Anchorage AK 99506-5000

Landholding Agency: Air Force

Property Number: 18199010432

Status: Unutilized

Reasons: Isolated area, Not accessible by road, Isolated and remote area; Arctic coast

Florida

Land

MacDill Air Force Base

6601 S. Manhattan Avenue

Tampa Co: Hillsborough FL 33608-

Landholding Agency: Air Force

Property Number: 18199030003

Status: Excess

Reason: Floodway

Kentucky

Tract 4626

Barkley, Lake, Kentucky and Tennessee

Donaldson Creek Launching Area

Cadiz Co: Trigg KY 42211-

Location: 14 miles from US Highway 68

Landholding Agency: COE

Property Number: 31199010030

Status: Underutilized

Reason: Floodway

Tract AA-2747

Wolf Creek Dam and Lake Cumberland

US HWY. 27 to Blue John Road

Burnside Co: Pulaski KY 42519-

Landholding Agency: COE

Property Number: 31199010038

Status: Underutilized

Reason: Floodway

Tract AA-2726

Wolf Creek Dam and Lake Cumberland

KY HWY. 80 to Route 769

Burnside Co: Pulaski KY 42519-

Landholding Agency: COE

Property Number: 31199010039

Status: Underutilized

Reason: Floodway

Tract 1358

Barkley Lake, Kentucky and Tennessee

Eddyville Recreation Area

Eddyville Co: Lyon KY 42038-

Location: US Highway 62 to state highway 93

Landholding Agency: COE

Property Number: 31199010043

Status: Excess

Reason: Floodway

Red River Lake Project

Stanton Co: Powell KY 40380-

Location: Exit Mr. Parkway at the Stanton and Slade Interchange, then take SR Hand 15 north to SR 613

Landholding Agency: COE

Property Number: 31199011684

Status: Unutilized

Reason: Floodway

Barren River Lock & Dam No. 1

Richardsville Co: Warren KY 42270-

Landholding Agency: COE

Property Number: 31199120008

Status: Unutilized

Reason: Floodway

Green River Lock & Dam No. 3

Rochester Co: Butler KY 42273-

Location: Off State Hwy. 369, which runs off of Western Ky. Parkway

Landholding Agency: COE

Property Number: 31199120009

Status: Unutilized

Reason: Floodway

Green River Lock & Dam No. 4

Woodbury Co: Butler KY 42288-

Location: Off State Hwy 403, which is off State Hwy 231

Landholding Agency: COE

Property Number: 31199120014

Status: Underutilized

Reason: Floodway

Green River Lock & Dam No. 5

Readville Co: Butler KY 42275-

Location: Off State Highway 185

Landholding Agency: COE

Property Number: 31199120015

Status: Unutilized

Reason: Floodway

Green River Lock & Dam No. 6

Brownsville Co: Edmonson KY 42210-

Location: Off State Highway 259

Landholding Agency: COE

Property Number: 31199120016

Status: Underutilized

Reason: Floodway

Vacant land west of locksite

Greenup Locks and Dam

5121 New Dam Road

Rural Co: Greenup KY 41144-

Landholding Agency: COE

Property Number: 31199120017

Status: Unutilized

Reason: Floodway

Maryland

Land

Brandywine Storage Annex

1776 ABW/DE Brandywine Road, Route 381

Andrews AFB Co: Prince Georges MD 20613-

Landholding Agency: Air Force

Property Number: 18199010263

Status: Unutilized

Reason: Secured Area

Tract 131R

Youghiogheny River Lake, Rt. 2, Box 100

Friendsville Co: Garrett MD

Landholding Agency: COE

Property Number: 31199240007

Status: Underutilized

Reason: Floodway

Minnesota

Parcel G

Pine River

Cross Lake Co: Crow Wing MN 56442-

Location: 3 miles from city of Cross Lake between highways 6 and 371.

Landholding Agency: COE

Property Number: 31199011037

Status: Excess

Reason: Highway right of way

Mississippi

Parcel 1

Grenada Lake

Section 20

Grenada Co: Grenada MS 38901-0903

Landholding Agency: COE

Property Number: 31199011018

Status: Underutilized

Reason: Within airport runway clear zone

Missouri

Ditch 19, Item 2, Tract No. 230

St. Francis Basin Project

2½ miles west of Malden

Co: Dunklin MO

Landholding Agency: COE

Property Number: 31199130001

Status: Unutilized

Reason: Floodway

New Mexico

Facility 75100

Holloman Air Force Base

Co: Otero NM 88330-

Landholding Agency: Air Force

Property Number: 18199240043

Status: Unutilized

Reason: Secured Area

North Carolina

0.52 acres

Summerall TACAN Annex

Seymour Johnson AFB

Wayne Co: NC 27530-

Landholding Agency: Air Force

Property Number: 18200020008

Status: Unutilized

Reason: Within airport runway clear zone

1.84 acres

Neuse Middle Marker Annex

Seymour Johnson AFB

Wayne Co: NC 27531-

Landholding Agency: Air Force

Property Number: 18200120011

Status: Unutilized

Reasons: Floodway, inaccessible

North Dakota

0.23 acres

Minot Middle Marker Annex

Co: Ward ND 58705-

Landholding Agency: Air Force

Property Number: 18199810001

Status: Unutilized

Reason: Within airport runway clear zone

Ohio

Mosquito Creek Lake

Everett Hull Road Boat Launch

Cortland Co: Trumbull OH 44410-9321

Landholding Agency: COE

Property Number: 31199440007

Status: Underutilized

Reason: Floodway

Mosquito Creek Lake

Housel—Craft Rd., Boat Launch

Cortland Co: Trumbull OH 44410-9321

Landholding Agency: COE

Property Number: 31199440008

Status: Underutilized

Reason: Floodway

36 Site Campground

German Church Campground

Berlin Center Co: Portage OH 44401-9707

Landholding Agency: COE

Property Number: 31199810001

Status: Unutilized

Reason: Floodway

Pennsylvania

Lock and Dam #7

Monongahela River

Greensboro Co: Greene PA

Location: Left hand side of entrance roadway to project

Landholding Agency: COE

Property Number: 31199011564

Status: Unutilized

Reason: Floodway

Mercer Recreation Area

Shenango Lake

Transfer Co: Mercer PA 16154-

Landholding Agency: COE

Property Number: 31199810002

Status: Unutilized

Reason: Floodway

Tract No. B-212C

Upstream from Gen. Jadwin Dam & Reservoir

Honesdale Co: Wayne PA 18431-

Landholding Agency: COE

Property Number: 31200020005

Status: Unutilized

Reason: Floodway

Puerto Rico

119.3 acres

Culebra Island PR 00775-

Landholding Agency: Interior

Property Number: 61199210001

Status: Excess

Reason: Floodway

South Dakota

Badlands Bomb Range

60 miles southeast of Rapid City, SD

1½ miles south of Highway 44 Co: Shannon SD

Landholding Agency: Air Force

Property Number: 18199210003

Status: Unutilized

Reason: Secured Area

Tennessee

Brooks Bend

Cordell Hull Dam and Reservoir

Highway 85 to Brooks Bend Road

Gainesboro Co: Jackson TN 38562-

Location: Tracts 800, 802-806, 835-837, 900-902, 1000-1003, 1025

Landholding Agency: COE

Property Number: 21199040413

Status: Underutilized

Reason: Floodway

Cheatham Lock and Dam

Highway 12

Ashland City Co: Cheatham TN 37015-

Location: Tracts E-513, E-512-1 and E-512-2

Landholding Agency: COE

Property Number: 21199040415

Status: Underutilized

Reason: Floodway

Tract 6737

Blue Creek Recreation Area

Barkley Lake, Kentucky and Tennessee

Dover Co: Stewart TN 37058-

Location: U.S. Highway 79/TN Highway 761

Landholding Agency: COE

Property Number: 31199011478

Status: Underutilized

Reason: Floodway

Tracts 3102, 3105, and 3106

Brimstone Launching Area

Cordell Hull Lake and Dam Project

Gainesboro Co: Jackson TN 38562-

Location: Big Bottom Road

Landholding Agency: COE

Property Number: 31199011479

Status: Excess

Reason: Floodway

Tract 3507

Proctor Site

Cordell Hull Lake and Dam Project

Celina Co: Clay TN 38551-

Location: TN Highway 52

Landholding Agency: COE

Property Number: 31199011480

Status: Unutilized

Reason: Floodway

Tract 3721

Obey

Cordell Hull Lake and Dam Project

Celina Co: Clay TN 38551-

Location: TN Highway 53

Landholding Agency: COE

Property Number: 31199011481

Status: Unutilized

Reason: Floodway

Tracts 608, 609, 611 and 612

Sullivan Bend Launching Area

Cordell Hull Lake and Dam Project

Carthage Co: Smith TN 37030-

Location: Sullivan Bend Road

Landholding Agency: COE

Property Number: 31199011482

Status: Underutilized

Reason: Floodway

Tract 920

Indian Creek Camping Area

Cordell Hull Lake and Dam Project

Granville Co: Smith TN 38564-

Location: TN Highway 53

Landholding Agency: COE

Property Number: 31199011483

Status: Underutilized

Reason: Floodway

Tracts 1710, 1716 and 1703

Flynns Lick Launching Ramp

Cordell Hull Lake and Dam Project

Gainesboro Co: Jackson TN 38562-

Location: Whites Bend Road

Landholding Agency: COE

Property Number: 31199011484

Status: Underutilized

Reason: Floodway

Tract 1810

Wartrace Creek Launching Ramp

Cordell Hull Lake and Dam Project

Gainesboro Co: Jackson TN 38551-

Location: TN Highway 85

Landholding Agency: COE

Property Number: 31199011485

Status: Underutilized

Reason: Floodway

Tract 2524

Jennings Creek

Cordell Hull Lake and Dam Project

Gainesboro Co: Jackson TN 38562-

Location: TN Highway 85

Landholding Agency: COE

Property Number: 31199011486

Status: Unutilized

Reason: Floodway

Tracts 2905 and 2907

Webster

Cordell Hull Lake and Dam Project

Gainesboro Co: Jackson TN 38551-

Location: Big Bottom Road

Landholding Agency: COE

Property Number: 31199011487

Status: Unutilized

Reason: Floodway

Tracts 2200 and 2201

Gainesboro Airport

Cordell Hull Lake and Dam Project

Gainesboro Co: Jackson TN 38562-

Location: Big Bottom Road

Landholding Agency: COE

Property Number: 31199011488

Status: Underutilized

Reasons: Within airport runway clear zone, Floodway

Tracts 710C and 712C

Sullivan Island

Cordell Hull Lake and Dam Project

Carthage Co: Smith TN 37030-

Location: Sullivan Bend Road

Landholding Agency: COE

Property Number: 31199011489

Status: Unutilized

Reason: Floodway

Tract 2403, Hensley Creek

Cordell Hull Lake and Dam Project

Gainesboro Co: Jackson TN 38562-

Location: TN Highway 85

Landholding Agency: COE

Property Number: 31199011490

Status: Unutilized

Reason: Floodway

Tracts 2117C, 2118 and 2120

Cordell Hull Lake and Dam Project

Trace Creek

Gainesboro Co: Jackson TN 38562-

Location: Brooks Ferry Road

Landholding Agency: COE

Property Number: 31199011491

Status: Unutilized

Reason: Floodway

Tracts 424, 425 and 426

Cordell Hull Lake and Dam Project

Stone Bridge

Carthage Co: Smith TN 37030-

Location: Sullivan Bend Road

Landholding Agency: COE

Property Number: 31199011492

Status: Unutilized

Reason: Floodway

Tract 517

J. Percy Priest Dam and Reservoir

Suggs Creek Embayment

Nashville Co: Davidson TN 37214-

Location: Interstate 40 to S. Mount Juliet Road.

Landholding Agency: COE

Property Number: 31199011493

Status: Underutilized

Reason: Floodway

Tract 1811

West Fork Launching Area

Smyrna Co: Rutherford TN 37167-

Location: Florence Road near Enon Springs Road

Landholding Agency: COE

Property Number: 31199011494

Status: Underutilized

Reason: Floodway

Tract 1504

J. Perry Priest Dam and Reservoir

Lamon Hill Recreation Area

Smyrna Co: Rutherford TN 37167-

Location: Lamon Road

Landholding Agency: COE

Property Number: 31199011495

Status: Underutilized

Reason: Floodway

Tract 1500

J. Perry Priest Dam and Reservoir

Pools Knob Recreation

Smyrna Co: Rutherford TN 37167-

Location: Jones Mill Road

Landholding Agency: COE

Property Number: 31199011496

Status: Underutilized

Reason: Floodway

Tracts 245, 257, and 256

J. Perry Priest Dam and Reservoir

Cook Recreation Area

Nashville Co: Davidson TN 37214-

Location: 2.2 miles south of Interstate 40 near Saunders Ferry Pike.

Landholding Agency: COE

Property Number: 31199011497

Status: Underutilized

Reason: Floodway

Tracts 107, 109 and 110

Cordell Hull Lake and Dam Project

Two Prong

Carthage Co: Smith TN 37030-

Location: US Highway 85

Landholding Agency: COE

Property Number: 31199011498

Status: Unutilized

Reason: Floodway

Tracts 2919 and 2929

Cordell Hull Lake and Dam Project

Sugar Creek

Gainesboro Co: Jackson TN 38562-

Location: Sugar Creek Road

Landholding Agency: COE

Property Number: 31199011500

Status: Unutilized

Reason: Floodway

Tracts 1218 and 1204

Cordell Hull Lake and Dam Project

Granville—Alvin Yourk Road

Granville Co: Jackson TN 38564-

Landholding Agency: COE

Property Number: 31199011501

Status: Unutilized

Reason: Floodway

Tract 2100

Cordell Hull Lake and Dam Project

Galbreaths Branch

Gainesboro Co: Jackson TN 38562-

Location: TN Highway 53

Landholding Agency: COE

Property Number: 31199011502

Status: Unutilized

Reason: Floodway

Tract 104 et. al.

Cordell Hull Lake and Dam Project

Horshoe Bend Launching Area

Carthage Co: Smith TN 37030-

Location: Highway 70 N

Landholding Agency: COE

Property Number: 31199011504

Status: Underutilized

Reason: Floodway

Tracts 510, 511, 513 and 514

J. Percy Priest Dam and Reservoir Project

Lebanon Co: Wilson TN 37087-

Location: Vivrett Creek Launching Area, Alvin Sperry Road

Landholding Agency: COE

Property Number: 31199120007

Status: Underutilized

Reason: Floodway

Tract A-142, Old Hickory Beach

Old Hickory Blvd.

Old Hickory Co: Davidson TN 37138-

Landholding Agency: COE

Property Number: 31199130008

Status: Underutilized

Reason: Floodway

Tract D, 7 acres

Cheatham Lock & Dam

Nashville Co: Davidson TN 37207-

Landholding Agency: COE

Property Number: 31200020006

Status: Underutilized

Reason: Floodway

Texas

Tracts 104, 105-1, 105-2 & 118

Joe Pool Lake

Co: Dallas TX

Landholding Agency: COE

Property Number: 31199010397

Status: Underutilized

Reason: Floodway

Part of Tract 201-3

Joe Pool Lake

Co: Dallas TX

Landholding Agency: COE

Property Number: 31199010398

Status: Underutilized

Reason: Floodway

Part of Tract 323

Joe Pool Lake

Co: Dallas TX

Landholding Agency: COE

Property Number: 31199010399

Status: Underutilized

Reason: Floodway

Tract 702-3

Granger Lake

Route 1, Box 172

Granger Co: Williamson TX 76530-9801

Landholding Agency: COE

Property Number: 31199010401

Status: Unutilized

Reason: Floodway

Tract 706

Granger Lake

Route 1, Box 172

Granger Co: Williamson TX 76530-9801

Landholding Agency: COE

Property Number: 31199010402

Status: Unutilized

Reason: Floodway

Utah

10.24 acres

Southern Utah Communication Site

Salt Lake UT

Landholding Agency: Air Force

Property Number: 18199810002

Status: Unutilized

Reason: Inaccessible

Washington

Fairchild AFB

SE corner of base

Fairchild AFB Co: Spokane WA 99011-

Landholding Agency: Air Force

Property Number: 18199010137

Status: Unutilized

Reason: Secured Area

Fairchild AFB

Fairchild AFB Co: Spokane WA 99011-

Location: NW corner of base

Landholding Agency: Air Force

Property Number: 18199010138

Status: Unutilized

Reason: Secured Area

West Virginia

Morgantown Lock and Dam

Box 3 RD # 2

Morgantown Co: Monongahelia WV 26505-

Landholding Agency: COE

Property Number: 31199011530

Status: Unutilized

Reason: Floodway

London Lock and Dam

Route 60 East

Rural Co: Kanawha WV 25126-

Location: 20 miles east of Charleston, W. Virginia.

Landholding Agency: COE

Property Number: 31199011690

Status: Unutilized

Reason: .03 acres; very narrow strip of land

Portion of Tract #101

Buckeye Creek

Sutton Co: Braxton WV 26601-

Landholding Agency: COE

Property Number: 31199810006

Status: Excess

Reason: Inaccessible

[FR Doc. 02-4715 Filed 2-28-02; 8:45 am]

BILLING CODE 4210-29-P